DEPARTMENT OF COMMERCE

National Oceanic and Atmospheric Administration

50 CFR Part 648

[Docket No. 160301163-7971-01]

RIN 0648-BF82

Magnuson-Stevens Fishery Conservation and Management Act Provisions; Fisheries of the Northeastern United States; Essential Fish Habitat

AGENCY: National Marine Fisheries Service (NMFS), National Oceanic and Atmospheric Administration (NOAA), Commerce.

ACTION: Proposed rule; request for comments.

SUMMARY: This action proposes regulations to implement the New England Fishery Management Council's Omnibus Essential Fish Habitat Amendment 2. This rule would revise essential fish habitat and habitat area of particular concern designations, revise or create habitat management areas to protect vulnerable habitat from fishing gear impacts, establish dedicated habitat research areas, and implement several administrative measures related to reviewing these measures. This action is necessary to comply with the requirements of the Magnuson-Stevens Fishery Conservation and Management Act to periodically review essential fish habitat designations and the protection of such habitats. The proposed measures are intended to minimize to the extent practicable the adverse effects of fishing on essential fish habitat.

DATES: Comments must be received by December 5, 2017.

ADDRESSES: You may submit comments, identified by NOAA-NMFS-2017-0123, by either of the following methods:

• Electronic Submission: Submit all electronic public comments via the Federal eRulemaking Portal.

1. Go to www.regulations.gov/#!docketDetail;D=NOAA-NMFS-2017-0123;

2. Click the “Comment Now!” icon and complete the required fields; and

3. Enter or attach your comments.

• Mail: Submit written comments to John K. Bullard, Regional Administrator, National Marine Fisheries Service, 55 Great Republic Drive, Gloucester, MA 01930. Mark the outside of the envelope, “Comments on the Proposed Rule for OA2.”

Instructions: Comments sent by any other method, to any other address or individual, or received after the end of the comment period, may not be considered by us. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

Copies of the Omnibus Essential Fish Habitat Amendment 2, including the Environmental Impact Statement, the Regulatory Impact Review, and the Initial Regulatory Flexibility Analysis (EIS/RIR/IRFA) prepared by the New England Fishery Management Council in support of this action are available from Thomas A. Nies, Executive Director, New England Fishery Management Council, 50 Water Street, Mill 2, Newburyport, MA 01950. The supporting documents are also accessible via the Internet at: http://www.nefmc.org/library/omnibus-habitat-amendment-2 or http://www.greateratlantic.fisheries.noaa.gov.

FOR FURTHER INFORMATION CONTACT: Moira Kelly, Senior Fishery Program Specialist, phone: 978-281-9218, Moira.Kelly@noaa.gov.

SUPPLEMENTARY INFORMATION:

Table of Contents

1. General Background

2. Essential Fish Habitat Designations

3. Habitat Areas of Particular Concern Designations

4. Spatial Management for Adverse Effects Minimization

5. Spawning Protection Measures

6. Dedicated Habitat Research Areas

7. Framework Adjustments and Monitoring

8. Description of Regulatory Changes

1. General Background

This action would implement the management measures in the Omnibus Essential Fish Habitat Amendment 2 (OA2). The Council deemed the proposed regulations consistent with and necessary to implement OA2 in a March 27, 2017, letter from Council Chairman Dr. John Quinn to Regional Administrator John Bullard. Under the Magnuson-Stevens Fishery Conservation and Management Act, we are required to publish proposed rules for comment after preliminarily determining whether they are consistent with applicable law. The Magnuson-Stevens Act permits us to approve, partially approve, or disapprove measures proposed by the Council based only on whether the measures are consistent with the fishery management plan, plan amendment, the Magnuson-Stevens Act and its National Standards, and other applicable law. Otherwise, we must defer to the Council's policy choices. We are seeking comment on the Council's proposed measures in OA2.

OA2 was initiated in 2004 to review and update the essential fish habitat (EFH) components of all the New England Fishery Management Council's fishery management plans (FMP). OA2 was developed over several years. The first phase of OA2 development was dedicated to (1) updating the EFH designations, (2) considering and designating Habitat Areas of Particular Concern (HAPC), and (3) updating prey species lists and non-fishing habitat impacts. The remainder of the development focused on (1) revising the system of year-round closed areas that restrict some types of fishing gear in order to protect vulnerable habitat and (2) establishing a system of Dedicated Habitat Research Areas (DHRA). Prior to consideration of management area changes, the Council determined it was important to consider revisions to the year-round groundfish closures in conjunction with this action because of the substantial overlap with the habitat management closures. This action also includes revisions to the EFH and HAPC designations that were initially approved by the Council in 2007 as well as an update of the non-fishing impacts evaluation.

The Council established 10 goals and 14 objectives to guide the development of this action. Goals 1-8 were established in 2004 at the onset of the Amendment's development and focus on identification of EFH; fishing and non-fishing activities that may adversely affect EFH; and the development of measures and management programs to conserve, protect, and enhance EFH and to minimize to the extent practicable the adverse effects of fishing on EFH. The additional goals (9 and 10) were developed after the Council voted to incorporate revisions to the groundfish closures in the Amendment. These goals are focused on enhancing groundfish productivity, including protection of spawning groundfish, and maximizing the societal net benefits from groundfish stocks.

The 14 objectives map to one or more of the Amendment's goals and provide more guidance on achieving each goal. For example, the objectives include identifying new data sources upon which to base the EFH designations (Objective A), developing analytical tools for EFH designation, minimization of adverse impacts, and monitoring the effectiveness of measures (Objective D; Goals 1, 3, and 5). Other objectives include modifying fishing methods to reduce impacts (Objective E; Goal 4), supporting the restoration of degraded habitat (Objective F; Goal 4), improving groundfish spawning protection, including protection of localized spawning contingents, and improving protection of critical groundfish habitats (Goals 9 and 10). Please see Volume 1, Section 3 of the EIS for more details on the goals and objectives of this Amendment.

2. Essential Fish Habitat Designations

The Magnuson-Stevens Act defines EFH as “those waters and substrate necessary to fish for spawning, breeding, feeding, or growth to maturity.” The EFH regulations (50 CFR part 600, subpart J) require councils to describe and identify EFH in text that clearly states the habitats or habitat types determined to be EFH for each life stage of a managed species and in maps that display the geographic locations of EFH or within which EFH for each species and life stage is found. Further, FMPs should explain the physical, biological, and chemical characteristics of EFH and, if known, how these characteristics influence the use of EFH for the species/life stage. The EFH regulations state that councils should periodically review the EFH provisions of FMPs and revise or amend as warranted, based on available information, and that a complete review of all EFH information should be conducted at least once every five years. The Council initiated this review of EFH designations to comply with these requirements.

A full description of the updated EFH designations, including maps and text designations, can be found in Volume 2 of the EIS. In addition, a thorough discussion of the data sources and methods used to assemble the designations is provided in Appendix A to the EIS. Another appendix (Appendix B) includes supplementary EFH information (e.g., prey species, temperature and salinity preferences) for each species and life stage not included in the EFH text descriptions in Volume 2 that may be considered when the potential effects of any fishing or non-fishing activity that could adversely affect EFH are evaluated. The quality and quantity of information varied by species, so a single approach for all Council-managed species and life stages was not possible. The Council relied upon the best available scientific information for each species and life stage. This rule proposes to approve all of the Council's recommendations for EFH designations.

3. Habitat Area of Particular Concern Designations

Habitat Areas of Particular Concern (HAPC) highlight specific types or areas of habitat within EFH that are particularly vulnerable to human impacts. An area's status as an HAPC should lead to special attention regarding the adverse effects from fishing or other activities in the designated area. An HAPC designation does not provide any specific habitat management measures, such as gear restrictions, and none are proposed as part of the HAPC designations in this amendment. Management measures are discussed under “Spatial Management for Adverse Effects Minimization,” #4 below.

HAPC designations should be based on one or more of the following criteria: (1) The importance of the ecological function provided by the habitat, including both the historical and current ecological function; (2) the extent to which the habitat is sensitive to human-induced environmental degradation; (3) whether, and to what extent, development activities are, or will be, stressing the habitat type; and (4) the rarity of the habitat type (50 CFR 600.815(a)(8)). The Council solicited and considered HAPC proposals from the public and added selection criteria, including whether the designation would improve fisheries management in the EEZ; whether it included EFH for more than one Council-managed species or specifically for juvenile cod; and whether it met more than one of the regulatory HAPC criteria listed above. Discussion of the areas considered and the degree to which they satisfied the eight criteria listed above can be found in Volume 2 of the EIS.

The Council is recommending that the current Atlantic Salmon HAPC and the Northern Edge Juvenile Cod HAPC remain as designated because they continue to meet the criteria listed above. In addition, the Council is recommending the following areas as new HAPCs: Inshore Juvenile Cod HAPC; Great South Channel Juvenile Cod HAPC; Cashes Ledge HAPC; Jeffreys Ledge/Stellwagen Bank HAPC; Bear and Retriever Seamount HAPC; and 11 canyon/canyon complexes. Maps and coordinates for the HAPC designations can be found in Volume 2 of the EIS. A summary of the rationale for each designation (or set of designations) is provided below. Detailed discussion of the rationale is provided in Volume 2, Section 3 of the EIS.

Inshore Juvenile Cod HAPC

The Inshore Juvenile Cod HAPC consists of the inshore areas of the Gulf of Maine and Southern New England between mean high water and a depth of 20 meters. Aside from some limited gaps, this HAPC is continuous along the coasts of Maine, New Hampshire, Massachusetts, and Rhode Island. The Council contends that the Inshore Juvenile Cod HAPC would meet all of the criteria listed above, except for rarity. The purpose of this HAPC is to recognize the importance of inshore areas to juvenile Atlantic cod. The coastal areas of the Gulf of Maine and Southern New England contain structurally complex rocky-bottom habitat that support a wide variety of emergent epifauna and benthic invertebrates. Although this habitat type is not rare in the coastal Gulf of Maine, it provides two key ecological functions for juvenile cod: Protection from predation; and readily available prey. Given its proximity to shore, it is especially subject to anthropogenic impacts, particularly non-fishing impacts.

Great South Channel Juvenile Cod HAPC

The Great South Channel Juvenile Cod HAPC consists of juvenile cod habitat on the western side of the Great South Channel within the boundaries specified in the EIS. This designation recognizes the importance of the area for its high benthic productivity and complex hard bottom habitats, which provide food and refuge from predation for cod and other managed species. Similar to the Inshore Cod HAPC, this HAPC meets all of the stated criteria, except rarity. This area is sensitive to anthropogenic stresses and contains habitat features that are sensitive to the adverse effects of bottom trawling, scallop dredging, and clam dredging. Some of the nearshore portions are also susceptible to non-fishing, coastal development stresses.

Cashes Ledge HAPC

This action would designate the existing Cashes Ledge Habitat Closure Area as an HAPC. This area differs from the proposed modified Cashes Ledge Habitat Management Area (see #4, below) in that the western boundary of the proposed new management area is shifted east, slightly reducing its size relative to the HAPC. The Council contends that this HAPC meets all of the criteria stated, including rarity. This designation highlights the unique characteristics of Cashes Ledge and its importance as habitat for a variety of managed species. The benthic habitat features on Cashes Ledge are susceptible to anthropogenic stresses, particularly fishing impacts.

Jeffreys Ledge/Stellwagen Bank HAPC

The existing Western Gulf of Maine Habitat Closure Area would be additionally designated as the Jeffreys Ledge/Stellwagen Bank HAPC through this action. The purpose of this designation is to recognize the importance of the area as habitat for a variety of species and, similar to most of the other HAPCs proposed, it meets all the criteria, except for rarity. This area is vulnerable to a wide-range of human-induced impacts, including vessel discharges from cruise ships and cargo vessels, future sand and gravel mining operations, and fiber-optic cable and pipeline construction. It is also susceptible to future impacts from activities such as offshore aquaculture, wind energy facilities, and other energy-related infrastructure. Further, the habitat features within this area are sensitive to fishing gear impacts, particularly from mobile bottom-tending gears.

Canyon and Seamount HAPCs

Sixteen canyons and two seamounts would be designated as HAPCs. These HAPCs were designated because of their unique deep-water habitats, especially as they relate to deep-sea corals and the overall function of the ecosystem. The HAPCs would be as follows: Bear and Retriever Seamounts (to a depth of 2,000 m); Heezen Canyon, Lydonia, Gilbert, and Oceanographer Canyons; Hydrographer Canyon; Veatch Canyon; Alvin and Atlantis Canyons; Hudson Canyon; Toms, Middle Toms, and Hendrickson Canyons; Wilmington Canyon; Baltimore Canyon; Washington Canyon; and Norfolk Canyon. The table below shows how the canyon and seamount proposals meet the HAPC criteria.

Table 1—HAPC Criteria and the Canyon and Seamount HAPCs
| Bear and retriever seamounts | Canyon HAPCs
Important ecological function | Yes | Yes.
Sensitive to anthropogenic stress | Yes | Yes.
Presence of current or future stress | No | Yes.
Rarity | Yes | No.
Improve fisheries management | Yes | Yes.
EFH for more than one species | No | Yes.
Juvenile cod EFH | No | Very slight overlap in Lydonia/Oceanographer HAPC.
More than one final rule criteria | Yes | Yes.

Seamount habitats are rare, but they are not currently subject to anthropogenic impacts, or expected to be in the near future. The biological communities within the canyons and on the seamounts are sensitive to anthropogenic disturbance. However, only the shallower and less steep parts of the canyons are generally accessible to fishing for species such as monkfish, squid, offshore hake, and others. Traps used to catch lobster and red crab are generally the only gears used in the deeper parts of the canyons themselves. Potential threats posed by non-fishing activities such as oil and gas exploration and drilling are not currently of concern.

As described in the EIS, the HAPCs are non-regulatory designations. The designations are intended to provide for increased attention when habitat protection measures are considered. HAPCs that are vulnerable to the potential impacts from fishing warrant special attention when determining appropriate management measures to minimize, compensate, or mitigate those impacts.

4. Spatial Management for Adverse Effects Minimization

The Magnuson-Stevens Act requires that fishery management plans evaluate and minimize, to the extent practicable, the adverse effects of fishing on EFH. The evaluation should consider the effects of each fishing activity on each type of habitat found within EFH. Councils must prevent, mitigate, or minimize any adverse effects from fishing on EFH, to the extent practicable, if there is evidence that a fishing activity adversely affects EFH in a manner that is more than minimal and not temporary in nature.

To evaluate the adverse effects of fishing on EFH, the Council spent a considerable amount of time developing the Swept Area Seabed Impact (SASI) model. The SASI model combines fishing effort and habitat vulnerability estimates into a spatial representation. Fishing effort across multiple gear types was converted to a common “currency” of swept area, i.e., the amount of area impacted by the gear when the bottom is contacted during fishing operations. Habitat vulnerability is a relative measure of the magnitude of the susceptibility of bottom habitats to fishing and the recovery potential of affected geological and biological habitat features. It is based on the type and structural features of the habitat, and the degree of natural disturbance caused by bottom currents and storms. For example, an area that is exposed to a high degree of natural disturbance is more resilient to additional impacts from fishing gear than an area of similar habitat type that is exposed to a lower degree of natural disturbance. Estimates of susceptibility to fishing and how quickly individual habitat features recover from those impacts are also incorporated. These estimates are linked spatially to a substrate model grid, for which the final output is a sensitivity-adjusted area swept in km² for each grid cell and gear type. Running the model without any realized fishing effort data for any given gear type (i.e., by setting the contact-adjusted swept area parameter to a constant in all grid cells) produced “maps” of simulated relative habitat vulnerability scores for the entire area where spatial management was considered in this amendment. The SASI model was reviewed at two separate times during its development: First by the Council's Scientific and Statistical Committee; and later by an independent peer review team. It was determined to be appropriate for use in fishery management decisions. A detailed discussion of the SASI model can be found in Appendix D to the EIS.

In order to translate the results of the SASI model into something that could be used in the fishery management process, the Council's Plan Development Team (PDT) ran a Local Indicators of Spatial Association (LISA) analysis on the outputs from the habitat vulnerability model runs for generic groundfish trawls. This analysis highlighted areas where the high vulnerability results from the SASI model clustered together. The PDT then examined the clusters and made initial suggestions on where boundaries around the vulnerable habitat areas could be drawn for fishery management purposes.

The Council, primarily through its Habitat Committee, then developed a series of potential areas for habitat management. In some cases, the areas were existing management areas or relatively minor adjustments to those areas. In other cases, new areas were identified based on output from the SASI model, independent sources of topographical and substrate data, and/or input from fishermen or environmental groups.

In addition to specifying the area to be managed, there were several options for gear restrictions for each area within a sub-region, although not all management options were available for all areas. Those options included:

(1) Complete restriction on the use of mobile bottom-tending gear;

(2) Restrictions on the use of mobile bottom-tending gear, except hydraulic clam dredges;

(3) A requirement that bottom trawl vessels use ground cables modified with 20-centimeter (cm) diameter elevating discs, spaced at 5 fathoms, with a length side not to exceed 45 fathoms (no restriction on dredges);

(4) A requirement that bottom trawl vessels eliminate ground cables and to limit bridle lengths at 30 fathoms per side;

(5) Complete restriction on gears capable of catching groundfish (only applicable to Eastern Gulf of Maine alternative 2);

(6) Closure to all gear types managed under a Federal fishery management plan (only applicable to Ammen Rock);

(7) A requirement that trawls use ground gear no more than 12 inches (30.5 cm) in diameter (only applicable to the Western Gulf of Maine alternatives 7a and 7b);

(8) A restriction on the use of mobile bottom-tending gear, except shrimp trawls (only applicable to Western Gulf of Maine alternative 8); and

(9) A restriction on the use of mobile bottom-tending gear, except scallop vessels if allowed under a rotational fishing program, and groundfish gear in the area currently open to fishing (only applicable to Georges Bank alternative 10).

The Council determined that given the workload and expertise on the PDT, an additional technical team should be convened to develop potential habitat management areas focused on the two added groundfish-specific goals. This group, called the Closed Area Technical Team or CATT, was composed of staff of the Council, Greater Atlantic Regional Fisheries Office, Northeast Fisheries Science Center, and other technical staff. The CATT used a hotspot analysis of fishery independent survey data to locate areas where particularly vulnerable juvenile and spawning groundfish aggregate at different times of year. The CATT-based areas were incorporated into the SASI-based areas by modifying the boundary of a particular area or creating a new area entirely. The Council's Scientific and Statistical Committee reviewed the CATT's analysis and determined it was appropriate for use in fishery management decisions. A full description of the CATT's hotspot analysis can be found in Section 2.1 of Volume 5 and in Appendix E of the EIS.

Because these processes resulted in so many potential areas and combinations of areas, the Habitat Committee determined that sub-dividing the analyses and decision-making process would better represent the fishing stocks and areas involved. The sub-regions became Eastern Gulf of Maine, Central Gulf of Maine, Western Gulf of Maine, Georges Bank, and Great South Channel/Southern New England. The PDT and CATT held a series of joint meetings to develop initial “packages” of areas within each sub-region that were likely to achieve the stated goals and objectives of the amendment. These packages formed the basis for the many alternatives in the Amendment. In each sub-region, the Council considered eliminating all spatial habitat management in order to fully describe the range of impacts and to provide the ability to mix and match across sub-regions to find a practicable solution. The sub-regional packages were then modified by the Committee and the Council during a series of public meetings, until the Council took action in February 2014 to select initial preferred alternatives for public hearings. The Council held public hearings and accepted comments until January 2015 on these sets of preferred alternatives.

Following the public hearings and in response to the public comments, the Council selected its recommended measures over the course of two meetings in April and June 2015. The April meeting covered all recommendations, except for the Georges Bank habitat management areas and the Gulf of Maine and Georges Bank spawning alternatives (see #5 for more information). The Council's preferred alternatives and a brief description of the Council's rationale for its preferences are included below. For a thorough discussion of the other alternatives considered and the potential impacts from those alternatives, please see Volumes 3, 4, and 5 of the EIS. Coordinates and maps of all areas can be found in Volume 3 of the EIS.

Eastern Gulf of Maine

In the Eastern Gulf of Maine, the Council recommends establishing the Small Eastern Maine Habitat Management Area (HMA), closed to all mobile bottom-tending gears. (Note, the proposed regulations refer to this area as simply the “Eastern Maine HMA.”) The EIS notes that the Council selected this area as preferred because it expects this alternative to protect habitats of similar species as the larger area that was considered, but with fewer economic impacts on the fishing industry. In terms of protection of vulnerable habitats and designated EFH coverage, the proposed area ranks towards the middle of the areas considered for this sub-region. Because there is currently no habitat management area in the eastern Gulf of Maine, implementing a mobile bottom-tending gear closure in any area represents an improvement in groundfish habitat protection in this sub-region. However, bottom trawls and dredges are used sparingly in any of the areas that the Council considered and lobster traps are not subject to any of the regulations in this amendment. Therefore, no short-term reductions in the adverse impacts of fishing in this sub-region are expected.

Central Gulf of Maine

In the Central Gulf of Maine, the Council recommends maintaining the existing Cashes Ledge Groundfish Closure Area and modifying the existing Jeffreys Bank and Cashes Ledge Habitat Closure Areas, with their current fishing restrictions and exemptions; establishing the Fippennies Ledge HMA, closed to mobile bottom-tending gears; and establishing the Ammen Rock HMA, closed to all fishing except lobster traps.

The EIS describes the variety of reasons that the Council selected these areas as preferred. Maintaining the existing Cashes Ledge Groundfish Closure Area with the existing management restrictions was a much-debated decision. Because the groundfish closure areas prohibit gears capable of catching groundfish, including those that have minimal impact on habitat, many felt that the groundfish areas in their entirety ought to be removed because there are other existing measures in the FMP designed to control groundfish mortality. However, the Council is recommending that the Cashes Ledge Groundfish Closure Area remain closed to commercial gears capable of catching groundfish in order to support the goals and objectives of this action that were added to improve the protection of juvenile and spawning groundfish habitats. Maintaining this closure will also ensure that a more diverse array of bottom habitats that support a greater variety of species remain protected from fishing impacts. The other recommended actions in this sub-region are modifications to the existing Cashes Ledge and Jeffreys Bank habitat closures. These modifications were designed to more closely align with the location of the shallower, hard-bottom habitats and to increase fishery access to the deeper, less vulnerable mud and sand habitats that surround the ledges. Ammen Rock on top of Cashes Ledge is a unique feature within the Gulf of Maine and features kelp forest habitat that would benefit from enhanced protection, which is why there are additional management restrictions in that area. Fippennies Ledge is an additional hard bottom feature within the Cashes Ledge Groundfish Closure Area that would be protected by maintaining the status quo groundfish closure. However, the Council determined that in the event that the Cashes Ledge Groundfish Closure Area is modified or removed at some point in the future, Fippennies still warrants protection from the adverse effects of mobile bottom-tending gear. In terms of habitat protection and benefits to groundfish resources, both the proposed alternative and the existing habitat protection measures rank high.

Western Gulf of Maine

In the Western Gulf of Maine, the Council recommends maintaining the existing Western Gulf of Maine Habitat Closure Area, closed to mobile bottom-tending gears, and modifying the eastern boundary of the Western Gulf of Maine [Groundfish] Closure Area to align with the habitat closure area, while maintaining the current fishing restrictions and requirements. The Council also recommends creating an exemption area within the northwest corner of those closures for shrimp trawls and designating the existing Roller Gear Restricted Area requirements as a habitat protection measure.

The EIS describes the Council's rationale for these areas in greater detail. In summary, these areas were selected to maintain decades' worth of protections in this region, while modestly increasing access to the eastern edge of the area. The shrimp exemption was designed to minimize the economic impact on a fleet whose gear has minimal habitat impact, when authorized to operate. The roller gear restriction has been required for several years and was originally implemented through Framework Adjustment 27 to the Northeast Multispecies Fishery Management Plan to minimize cod mortality by preventing trawl gear from fishing over rocky substrate. As such, it has been a de facto habitat protection measure and the Council wanted to note it formally as such. The Council is recommending the removal of 23 percent of the existing Western Gulf of Maine Groundfish Closure Area, which was closed to all gears capable of catching groundfish in 1995, to make its eastern boundary align with the boundary of the habitat closure. The Council is making this recommendation because it concluded that this reduction would still provide sufficient conservation for cod and other depleted stocks, while increasing fishing access to the eastern side of the area. The EIS characterizes habitats in the long, narrow area that would be newly opened to fishing as deeper mud habitats that are less vulnerable to fishing, but notes the presence of Wildcat Knoll, a hard bottom feature located in shallower water near the southeast corner of the existing groundfish closure.

The proposed area includes comparable amounts of vulnerable and diverse habitats as the two smaller inshore Bigelow Bight areas. The Bigelow Bight Areas contain more EFH, particularly for overfished large-mesh groundfish species, and more juvenile groundfish hotspots. However, the Council concluded that it was impracticable to impose fishing prohibitions in either of the inshore areas because a significant amount of bottom trawling activity would be affected, particularly for the smaller boat fleet that would be less able to travel farther offshore to compensate for the reduction in access near shore. The Council concluded that its preferred alternative would have the same level of positive impacts on habitat and groundfish resources as the existing closures, with the same economic benefits.

Georges Bank

On Georges Bank, the Council recommends removing the year-round and habitat closures of Closed Areas I and II and replacing them with three new areas: (1) The Georges Shoal 2 HMA, closed to mobile bottom-tending gear, with a 1-year delay in closure to hydraulic clam dredges; (2) the Northern Edge Reduced Impact HMA, closed to mobile bottom-tending gear, with two exceptions described below; and (3) the Northern Edge Mobile Bottom-Tending Gear HMA, closed to mobile bottom-tending gear without any exceptions. Exemptions to the Reduced Impact HMA are scallop dredge fishing in accordance with the scallop rotational area program, and trawl fishing to the west of the existing western boundary of Closed Area II (67°20′W long.), in what is now the Eastern Georges Bank Special Access Program. In addition, any portions of the Closed Area II groundfish closed area north of 41°30′N lat. would be closed to scallop fishing between June 15 and October 31 of each year. The remainder of the existing Closed Area I Habitat and Groundfish Closure Areas and Closed Area II Groundfish Closure Area would be opened, except for seasonal spawning protection as described below in #5 (Groundfish Spawning Measures). Volume 3 of the EIS describes the Council's rationale in detail.

The Council's proposed changes would open an area that has been closed to mobile bottom-tending fishing gear for over 20 years. It would allow rotational scallop dredge fishing along the northern edge of Georges Bank. A portion of the Northern Edge HMA that would be opened to rotational limited access scallop dredging as part of the Council's preferred alternative includes the northern portion of an area designated as a Habitat Area of Particular Concern in 1998 and reaffirmed in this amendment due to the ecological importance and vulnerability of the area for juvenile cod.

The Council reasons that the potential economic benefits of allowing rotational scallop fishing on the northern edge outweigh the potential benefits to juvenile cod and cod stock recovery that would accrue from leaving the area closed. The scallop fishery has averaged over $490 million in revenue over the past 5 years. The potential increases in revenue for the scallop fishery from 2017-2039 range from $189 million ((3 percent discount rate) or $169 million using a 7-percent discount rate)) in 2018 to a decrease in value of $5 million ((3 percent discount rate) or $4 million using a 7-percent discount rate)) in 2020. The discount rate is the rate used to determine present value of current cash flows. Guidance for implementing the Regulatory Flexibility Act uses both a 3-percent discount rate and a 7-percent discount rate because, while 7 percent is a recent estimate of the average before-tax rate of return to private capital, historically, the rate has averaged 3 percent. Volume 5, Section 6.2.2 of the EIS describes the economic effect of the Council's proposals on the scallop fishery in detail. The EIS uses 2015 constant dollars and the scallop fishery's established models for projecting biomass and revenue. The Council's proposed recommendations would result in a potential additional $60 million-$62 million (annualized in accordance with the Regulatory Impact Analysis Circular A-4, in 2016 dollars) to the scallop fishery.

In contrast, while there is a lot of uncertainty in the stock assessment, the Georges Bank cod stock is in poor condition. The Council concluded that the proposed alternative would be less beneficial to the groundfish resources in that sub-region than the existing closures, but would be moderately positive relative to no habitat protection measures.

The Council provides that the gear restrictions in the Georges Shoal HMA and the mobile bottom-tending gear closure south of the Northern Edge Reduced Impact HMA offset the increased impacts that would occur from opening the northern edge to rotational scallop fishing and special access bottom trawling activity in the future. The Council defines an area of reduced impact as being intermediate between full closure to mobile bottom-tending gear and open access fishing. The delayed closure for clam dredges in the Georges Shoal HMA was included to minimize the economic impact on the clam industry while exemptions in more specific areas of less vulnerable bottom habitat within the HMA could be developed. The scallop access program would rotate the dredge impacts according to the Scallop FMP's conditions for opening an area (generally based on the biomass of scallops within the area, overfishing definitions, and achievement of optimum yield). Groundfish trawling occurs already in the area to the west of the existing closure, but other gears, including scallop dredges outside of the access area program and clam dredges, would be prohibited. The seasonal closure for scallop vessels was included to mitigate gear conflicts with the lobster fishery.

The area that the Council is proposing to open to limited access scallop dredging has been closed to most types of bottom tending fishing gear for over 20 years. During this time, the biological community has fully recovered from any adverse effects of fishing that occurred prior to the closure, thus maximizing the habitat value of the area and its vulnerability to renewed gear impacts. A fully recovered community includes epifaunal species that are more susceptible to the first few passes of bottom-tending fishing gear than a recently disturbed community. For this reason, bottom habitats in the area are more at risk from the impacts of scallop dredges and bottom trawls than other areas that are currently open to these gears or have been protected for less time. Therefore, the potential impacts of even a limited amount of renewed bottom fishing in the proposed area need to be carefully evaluated.

As expressed several times throughout the Council decision process, NMFS has identified several significant concerns regarding the Council's preferred alternative in this sub-region. Our concerns focus on whether the proposals for this region support the requirement of the Magnuson-Stevens Act to minimize adverse effects from fishing; if the proposals achieve the Council's stated objectives of “improved protection of critical groundfish habitats;” and, if the impacts of scallop fishing in the more vulnerable portion of the Juvenile Cod HAPC were adequately considered and addressed when the preferred alternative was selected.

This amendment provides no habitat factors for considering the degree of scallop fishing that may be allowed in this area. While the area would be opened to scallop fishermen on a rotational basis, the extent and duration of the openings is otherwise unlimited. We are concerned about how this uncertain fishing effort will affect such a uniquely vulnerable area with such habitat importance to groundfish.

We are also concerned that there is no analysis showing that if the scallop fishery continues to have access only outside the existing Northern Edge HAPC that it would result in an actual cost to the industry. The analysis shows that there would continue to be opportunity costs from a lack of access to an area that contains scallops. However, continuing to prohibit mobile bottom-tending gear fishing along the northern edge is not expected to result in direct financial loss to the scallop industry because the area has been closed since 1995. The Scallop FMP allows increased fishing opportunities in open areas to compensate for lost access to biomass in closed areas, which can mitigate the economic impact from maintaining the current habitat protections in this area. This mitigation has been occurring since the closure in 1995 and would continue if the area continued to be closed to scallop fishing. Further, recruitment to the fishery of the large 2014 year class in open areas on Georges Bank and Southern New England is expected to increase landings and revenue in the scallop fishery starting in 2018.

We are concerned that the other two recommended areas on Georges Bank may not sufficiently compensate for the adverse impacts from opening the Northern Edge Reduced Impact HMA. The habitat value of the Georges Shoal HMA is low, judging from its high proportion of unstable sandy substrate and low EFH value. As described in Volume 3 of the EIS, the Georges Shoal HMA has one of the lowest EFH scores—a measure of how many species and life stages utilize the area—of any potential management area, despite its relatively large size. The primary mobile bottom-tending gear used in this area is the hydraulic clam dredge, a gear that would not be allowed to continue fishing in this area after a 1-year delay in effectiveness. There is no scallop fishing and very little bottom trawling activity in the area. It is not known whether clam dredges here are used in more vulnerable hard bottom habitats as they are east of Nantucket Island. If they are, then a prohibition on their use in the Georges Shoal HMA could reduce the adverse impacts of current fishing activity on EFH to some extent.

Bottom trawling by groundfish vessels would continue in the small portion of this area west of the current western boundary of Closed Area II. The area within Closed Area II that is located south of the HAPC, and includes a portion of the HAPC, contains a smaller percentage (but roughly the same amount) of the more stable and vulnerable hard bottom substrates that dominate the shallower portion of the northern edge where scallop fishing would be allowed. This area has been closed to mobile bottom-tending gears for over 20 years, and would continue to protect some vulnerable habitat on eastern Georges Bank, but without any improvement relative to the status quo protections that are already in place on Georges Bank.

A related concern with these areas is that the alternative does not appear to improve protection of critical groundfish habitats or improve refuge for critical groundfish life history stages in this sub-region—two of the Council's objectives of the amendment. The northern edge of Georges Bank is known to provide highly suitable gravel, cobble, and boulder habitat for small juvenile groundfish such as cod and haddock. This habitat type is particularly vulnerable to the adverse effects of mobile bottom-tending gear such as scallop dredges. As discussed above, allowing this area to be fished without sufficiently compensating for the impacts of mobile bottom-tending gear would appear to reduce protections, not improve them.

Finally, the Council recognized the ecological importance and vulnerability of the northern edge in 1998 by designating the Northern Edge Juvenile Cod HAPC and re-affirming its status as a juvenile cod HAPC in this amendment. Because of this designation, special attention should be given to this area when developing management measures to minimize the adverse effects of fishing on EFH. However, we are concerned that appropriate consideration was not given to the impacts of scallop dredging on the specific habitat features that warrant designation as an HAPC.

The HAPC has been closed to mobile bottom-tending gear since January 1995. The habitat factors that favor the survival of juvenile cod and that should be considered when determining the degree to which this area would be subject to scallop dredging in the future are not defined in this action. Scallop access areas have generally been open for one or two years in a row, every third year. Research has shown that the recovery times for some vulnerable benthic organisms that inhabit the northern edge of Georges Bank exceed 5 years and complete recovery may take as long as 10 years. These recovery times appear to be incompatible with the standard rotational timeframe of the scallop access program.

NMFS is seeking comment on both the Council's rationale and our stated concerns. Specifically, we are focused on whether the Council's preferred alternatives minimize to the extent practicable the adverse effects of fishing; how the recommended measures meet the Council's stated goals and objectives of the Amendment; and whether the designation of an HAPC has been duly considered.

Great South Channel/Southern New England

In the Great South Channel, the Council recommends establishing the Great South Channel HMA. The northeast corner of the HMA (12.5 percent of the area) would be closed to all mobile bottom-tending gears. The effective date of the closure would be delayed by 1 year for hydraulic clam dredges throughout the remainder of the area. The Council is working to identify sub-areas that are less vulnerable to clam gear to determine if further exemptions are warranted and where they should be located in order to minimize impacts to EFH, but allow some amount of fishing to continue. The Council is also recommending establishing two small HMAs on Cox Ledge, closed to hydraulic clam dredges, and prohibiting ground cables on trawls fishing in the areas. No other mobile bottom-tending gears would be affected. The Nantucket Lightship Habitat Closure Area and the Nantucket Lightship Closed Area would be removed.

Throughout the development of the action, the Council's technical team expressed concern that the ground cable restriction measures would not minimize the habitat impacts of fishing. NMFS reiterated these concerns several times throughout the development of OA2 management measures. Ground cables account for a significant portion of a bottom trawl's seabed impact. However, the sediment clouds they create “herd” fish toward the opening of the net. The proposed gear modifications would reduce the effectiveness of the gear and, in all likelihood, cause vessels to fish longer in order to compensate for reduced catch rates. No studies of the trade-offs between reduced impacts of ground cable removal and the duration or frequency of bottom trawl tows were cited in the EIS for OA2.

The Council's recommendation of the Great South Channel HMA is a compromise between the larger Great South Channel East HMA (Alternative 3), located further to the east, and the slightly smaller Nantucket Shoals HMA (Alternative 5), located further to the west, closer to Nantucket Island. Bottom habitats in these areas are a mixture of less stable sand and more stable gravel, cobble, and boulder substrates and support fisheries for groundfish, clams, and scallops. The two most significant fisheries in the area are for surfclams and scallops. Scallop dredging is almost entirely restricted to deeper water along the western side of the Great South Channel and to an area east of Cape Cod. Clam dredging occurs in a large area of mixed bottom types in shallower water to the west. While the Council recognized the likelihood of negative economic impacts of these alternatives on the clam fishery, they were also concerned about the negative effects of hydraulic dredges on complex habitats occurring in the region.

There are two proposed HAPCs in this sub-region, the Inshore Juvenile Cod HAPC includes waters off the Massachusetts coast to 20 m deep, and overlaps slightly with the Nantucket Shoals and Nantucket Shoals West HMAs. The Great South Channel Juvenile Cod HAPC includes additional waters north and east of the HMAs to a depth of 120 m and partially overlaps the Council's preferred alternative in this sub-region.

Results of the habitat impact analyses in the EIS indicate that the Council's recommendation would have positive habitat impacts compared to leaving the habitat and groundfish closures in the Nantucket Lightship area in place, even with the 1-year delay in closure for clam dredges in most of the area. Impacts to groundfish resources would be approximately the same for both the existing and proposed measures. The proposed measures would have a slightly negative economic impact on the groundfish fishery, and a highly negative economic impact on the clam fishery after the 1-year delay expires.

5. Groundfish Spawning Measures

The Council has considered how to most effectively manage fishing during the spawning periods of key fish in several actions. During the development of this Amendment, the Council recommended, and NMFS implemented, several modifications to spawning protections for cod and other groundfish through Framework Adjustments 45 and 53. Because these measures were implemented prior to the completion of OA2, there was much debate over what should be done in this action. Ultimately, the Council is recommending adding a few minor protections to what is required currently.

Gulf of Maine

In the Gulf of Maine, the Council recommends establishing two new, relatively small, cod spawning protections. They include the Winter Massachusetts Bay Spawning Closure, which would be in effect from November 1-January 31 of each year. The area would be closed to all fishing vessels, with the same exemptions as the existing Gulf of Maine Cod Spawning Protection Area (i.e., Whaleback), including vessels fishing in state waters that do not have a Federal Northeast multispecies permit; vessels fishing with exempted gears; charter/party and private recreational vessels, provided they are fishing with pelagic hook and line gear and there is no retention of regulated groundfish or ocean pout; and vessels that are transiting. In addition, the Council is recommending a 2-week closure (April 15-April 30) within statistical area 125, referred to as the Spring Massachusetts Bay Spawning Protection Area in the draft regulations below. This area would be closed to all vessels, except: Vessels fishing in state waters that do not have a Federal Northeast multispecies permit; vessels fishing with exempted gears; vessels in the mid-water trawl and purse seine exempted fisheries; scallop vessels fishing with dredges on a scallop day-at-sea; vessels fishing in the scallop dredge exemption area; and charter, party, and recreational fishing vessels.

Georges Bank

On Georges Bank, the Council is recommending maintaining the existing Closed Area II Groundfish Closure Area and the Closed Area I North Habitat Closed Area as seasonal closures from February 1-April 15. The areas would be closed to all commercial and recreational vessels, except those that are transiting, fishing with exempted gears, participating in the mid-water trawl exempted fishery, and fishing with scallop dredges.

The Council is also recommending the removal of the May Georges Bank Spawning Closure. Sector vessels are exempted from this seasonal closure, rendering it virtually non-existent. Removing the closure would minimally reduce the administrative burden for sectors, as they would no longer have to request this exemption.

6. Dedicated Habitat Research Areas

In order to highlight research needs, particularly relating to evaluating the assumptions of the SASI model that the Council used as the basis for HMA development, the Council is proposing to establish two Dedicated Habitat Research Areas (DHRA). The Council is also recommending that the DHRAs would be in effect for 3 years, at which time the Regional Administrator would confer with the Council as to whether the designation should be retained. The Council developed a series of questions to assist in this future discussion that include consideration of where in the research development process an activity is, how well it aligns with the Council's stated habitat research priorities, and what role the DHRA designation plays in the research.

The Council recommends establishing the Georges Bank DHRA (footprint is the same as the existing Closed Area I South Habitat Closure) and the Stellwagen DHRA (footprint within the existing Western Gulf of Maine Habitat Closure). The Georges Bank DHRA would be closed to all mobile bottom-tending gear. The Stellwagen DHRA would be closed to all commercial mobile bottom-tending gear, commercial sink gillnet gear, and commercial demersal longline gear.

7. Framework Adjustments and Monitoring

The Council is recommending that the designation or removal of HMAs and changes to fishing restrictions within HMAs be considered frameworkable. In addition, the Council is proposing a review process to evaluate the performance of habitat and spawning protection measures. Finally, the Council is proposing to identify and periodically revise research priorities to improve habitat and spawning area monitoring.

8. Regulatory Changes

This rule proposes implementing measures for all of the Council's recommendations, as required. In order to improve clarity of the habitat-related management measures, we have reorganized § 648.81 to refer solely to year-round and seasonal closures designed for purposes of groundfish protection. All habitat-related measures, including the proposed HMAs and their accompanying regulatory text, the DHRAs and their accompanying text, and the Mid-Atlantic Fishery Management Council's Deep-Sea Coral Protection area can be found in a new subpart (Subpart Q). In addition, the Council stated that all areas currently closed to scallop dredging should remain closed upon the implementation of OA2 so that the Scallop Committee can better incorporate newly opened areas in the rotational management program. The existing EFH closures currently reside in both the groundfish (§ 648.81) and scallop (§ 648.61) regulations. We propose adding the groundfish closed areas that would otherwise be removed by this action to the scallop closure section (§ 648.61) to ensure that the restrictions on scallop fishing remain in place until a subsequent scallop action can modify them. The proposed regulations also update cross-references and definitions as needed. The Council deemed the regulations as necessary and appropriate, as required in the Magnuson-Stevens Act, on March 28, 2017.

Classification

Pursuant to section 304(a)(1)(A) of the Magnuson-Stevens Act, the NMFS Assistant Administrator has made a preliminary determination that this proposed rule may be consistent with OA2, other provisions of the Magnuson-Stevens Act, and other applicable law. In making the final determination, we will consider the data, views, and comments received during the public comment period.

This proposed rule has been preliminarily determined to be not significant for purposes of Executive Orders (E.O.) 12866. For the reasons stated earlier and in the accompanying EIS/RIR/IRFA, we anticipate this rule will result in an annualized cost savings of approximately $60 million-$62 million, using a 3- and 7-percent discount rate, respectively.

This proposed rule does not contain policies with Federalism or “takings” implications as those terms are defined in E.O. 13132 and E.O. 12630, respectively.

An Initial Regulatory Flexibility Analysis (IRFA) was prepared for this proposed rule, as required by section 603 of the Regulatory Flexibility Act (RFA), 5 U.S.C. 603. The IRFA describes the economic impact that this proposed rule would have on small entities, including small businesses, and also determines ways to minimize these impacts. The IRFA includes this section of the preamble to this rule and analyses contained in OA2 and its accompanying EIS/RIR/IRFA. A copy of the full analysis is available from the Council (see ADDRESSES). A summary of the IRFA follows.

Description of the Reason Why Action by the Agency Is Being Considered and Statement of the Objective of, and Legal Basis for, This Proposed Rule

This action proposes management measures to comply with requirements of the Magnuson-Stevens Act to minimize to the extent practicable the adverse effects of fishing on EFH. A complete description of the action, why it is being considered, and the legal basis for this action are contained in OA2, and elsewhere in the preamble to this proposed rule, and are not repeated here.

Description and Estimate of the Number of Small Entities to Which the Proposed Rule Would Apply

The Small Business Administration (SBA) defines a small business as one that is:

• Independently owned and operated;

• Not dominant in its field of operation;

• Has annual receipts that do not exceed—

○ $20.5 million in the case of commercial finfish harvesting entities (NAIC ¹ 114111)

¹ The North American Industry Classification System (NAICS) is the standard used by Federal statistical agencies in classifying business establishments for the purpose of collecting, analyzing, and publishing statistical data related to the U.S. business economy.

○ $5.5 million in the case of commercial shellfish harvesting entities (NAIC 114112)

○ $7.5 million in the case of for-hire fishing entities (NAIC 114119); or

• Has fewer than—

○ 750 employees in the case of fish processors

○ 100 employees in the case of fish dealers.

This proposed rule affects commercial and recreational fish harvesting entities engaged in fisheries throughout New England that utilize bottom-trawls (large and small mesh), longlines, rod and reel, gillnets, pots and traps, scallop dredges, and hydraulic clam dredges. The gears primarily affected by this action are two non-mutually exclusive fishing operations: Fishermen using gears capable of catching groundfish and fishermen using mobile bottom-tending gears. Individually permitted vessels may hold permits for several fisheries, harvesting species of fish that are regulated by several different FMPs. Furthermore, multiple-permitted vessels and/or permits may be owned by entities affiliated by stock ownership, common management, identity of interest, contractual relationships, or economic dependency. For the purposes of the Regulatory Flexibility Act analysis, the ownership entities, not the individual vessels, are considered the regulated entities.

Ownership entities are defined as those entities with common ownership personnel as listed on the permit application. Only permits with identical ownership personnel are categorized as an ownership entity. For example, if five permits have the same seven persons listed as co-owners on their permit application, those seven persons would form one ownership entity that holds those five permits. If two of those seven owners also co-own additional vessels, these two persons would be considered a separate ownership entity.

On June 1 of each year, NMFS identifies ownership entities based on a list of all permits for the most recent complete calendar year. The current ownership dataset used for this analysis was created based on calendar year 2014 and contains average gross sales associated with those permits for calendar years 2012 through 2014.

In addition to classifying a business (ownership entity) as small or large, a business can also be classified by its primary source of revenue. A business is defined as being primarily engaged in fishing for finfish if it obtains greater than 50 percent of its gross sales from sales of finfish. Similarly, a business is defined as being primarily engaged in fishing for shellfish if it obtains greater than 50 percent of its gross sales from sales of shellfish.

A description of the specific permits that are likely to be affected by this action is provided below, along with a discussion of the impacted businesses, which can include multiple vessels and/or permit types.

On December 29, 2015, NMFS issued a final rule establishing a small business size standard of $11 million in annual gross receipts for all businesses primarily engaged in the commercial fishing industry (NAICS 11411) for RFA compliance purposes only (80 FR 81194; December 29, 2015). The $11 million standard became effective on July 1, 2016, and is intended to be used in place of the SBA's current standards of $20.5 million, $5.5 million, and $7.5 million for the finfish (NAICS 114111), shellfish (NAICS 114112), and other marine fishing (NAICS 114119) sectors, respectively, of the U.S. commercial fishing industry in all NMFS rules subject to the RFA after July 1, 2016.

The Council took final action on OA2 in June 2015, and the analyses in support of this action were developed throughout the decision process and following the Council's action, but prior to July 1, 2016. This analysis was not updated to reflect a small business re-classification for all of the vessels affected by this amendment using our new size-standards because we have determined that this analysis provides a sufficient estimate of the number of small entities to which the proposed rule applies for purposes of determining this action's impacts on small entities and the considerations required under the RFA.

For most of the fisheries directly affected by this rule, RFA analyses have been completed on other actions since the implementation of the revised size standard. Table 2, below, shows the total number of entities from the last fishery management action analyzed under the SBA size standards and the first fishery management action analyzed under the revised NMFS policy standard. While the economic analyses in the Council's EIS included every federally permitted entity, examining the changes to just the key fisheries, including limited access scallop, groundfish, and the clam fisheries, is informative regarding the potential impact of the change in size.

Changes in the total number of entities year-to-year are generally a result of the timing of the data pull relative to permit renewals, regulatory changes, or inter-annual variation in ownership combinations. In terms of percentage of each of the major affected fisheries, the size standard change results in minimal changes in categories. For the limited access scallop, limited access general category scallop, and large-mesh groundfish fisheries, the size standard change results in less than a 1-percent change in category between large and small entities. For both the monkfish and surfclam/ocean quahog fisheries, the revised size standard shifts approximately 2 percent of entities from the large category to small. Note, the size standard for for-hire businesses did not change under the revision. The EIS analysis states that, in 2014, there were 4,071 small businesses (925 finfish, 2,713 shellfish, 433 for-hire), and 18 large businesses (all shellfish).

The revised size standard does not change the conclusions of the analysis or notably change the estimation of the impact on small entities from this action. As such, it is reasonable to rely upon the Council's economic analyses.

Regulated Commercial Fish Harvesting Entities

Table 3 describes revenue by business type (large or small) and Table 4 describes the total number of commercial business entities potentially regulated by the proposed action. As of the time of the Council's decision-making (2015), there were 4,071 small businesses (925 finfish, 2,713 shellfish, 433 for-hire) and 18 large businesses (all shellfish) potentially affected by this action. For fisheries utilizing mobile bottom-tending gear, the proposed action directly regulates potentially affected entities through restrictions on when and where vessels may fish to comply with the Magnuson-Stevens Act requirement to minimize to the extent practicable the adverse effects of fishing on essential fish habitat. For fisheries that use gears capable of catching groundfish, the proposed action additionally restricts location and timing of fishing to minimize impacts on spawning groundfish. According to the EIS, individuals fishing with mobile bottom-tending gear and midwater trawls tend to generate a substantial portion of their revenue from other gear types. The vast majority of individuals either fishing with mobile bottom-tending gear capable of catching groundfish or for-hire do not deviate from that mode, which could relate to the specialized nature of either the vessels or the captains' skills needed for these types of fishing.

In general, the overall changes the Council is proposing are relatively modest, particularly when compared to other alternatives considered. The majority of areas recommended in the Council's proposals are already closed to fishing. The current open areas that would close include the Eastern Maine HMA, the Georges Shoal HMA, and the Great South Channel HMA. As described above, there is currently very little mobile bottom-tending gear fishing in the Eastern Maine HMA because groundfish stocks have decreased locally in that region. The Great South Channel HMA was designed to minimize impact to the scallop fishery, particularly the design of the eastern boundary. Scallops occur primarily at depths beyond the closure boundary. There is not a significant amount of trawl fishing in that area because of the high level of natural disturbance. The Great South Channel HMA would primarily affect hydraulic clam dredges, after the 1-year delay expires. As noted above, the Georges Shoal HMA has very little trawl or scallop dredge fishing in it now, despite the fact that nearby areas have been closed since 1995. Again, only clam dredge fishing would be expected to experience a notable displacement of fishing and only after the 1-year delay expires.

The Council's proposed measures that would increase fishing opportunities include: (1) Modifying the Western Gulf of Maine Groundfish Closure Area by aligning the eastern boundary with the Habitat Closure Area; (2) modifying the Jeffreys Bank Habitat Closure Area and exposing the deeper, northern portion to potential fishing; (3) opening the northern edge of Georges Bank to rotational scallop fishing; (4) eliminating the Nantucket Lightship Groundfish and Habitat Closure Areas; and (5) implementing Closed Area I North and Closed Area II as seasonal, versus year-round, closure areas. The partial opening of the areas in the Gulf of Maine are expected to result in modest increases in groundfish revenue. The opening of the Nantucket Lightship closure areas could result in increases in scallop fishing. The northern edge of Georges Bank, within the Reduced Impact HMA and the Juvenile Cod HAPC, contains a substantial amount of scallops, with biomass estimates of over 10,000 mt and long-term yield estimates ranging from 419 to 1,079 mt. Because the value of scallops is so high (averaging over $10 per pound since 2010), there is potential for large increases in scallop revenue if the area is opened as proposed and prices remain at or around this value. As described above, there are concerns that the proposed fishing impacts may not be consistent with requirements of the Magnuson-Stevens Act to minimize to the extent practicable the adverse effects from fishing or with the Council's designation of the area as an HAPC. Should the Council's proposal in this sub-region not be approved, there would be no direct revenue lost to the scallop fishery, as the regulations would remain status quo, and the Scallop FMP would continue to offset the scallop biomass in the closed areas with increased fishing in the open areas, including any newly opened areas.

Table 2—Comparison of Large and Small Entities Under the SBA and NMFS Size Standards
Fishery | SBA standard: Total | SBA standard: Large | SBA standard: Small | SBA standard: Proposed rule with IRFA summary | NMFS standard: Total | NMFS standard: Large | NMFS standard: Small | NMFS standard: Proposed rule with IRFA summary
Scallop (LA) | 166 | 152 (91.6%) | 14 (8.4%) | Framework Adjustment 27 (81 FR 9151; 2/24/2016) | 154 | 141 (91.6%) | 13 (8.4%) | Framework Adjustment 28 (82 FR 6472; 1/19/2017).
Scallop (LAGC) | 106 | 102 (96.2%) | 4 (3.8%) | Framework Adjustment 27 (81 FR 9151; 2/24/2016) | 87 | 84 (96.6%) | 3 (3.4%) | Framework Adjustment 28 (82 FR 6472; 1/19/2017).
Monkfish | 397 | 16 (4.0%) | 381 (96.0%) | Framework Adjustment 9 (81 FR 6472; 6/23/2016) | 390 | 8 (2.1%) | 382 (97.9%) | Framework Adjustment 10 (82 FR 21498; 5/9/2017).
Groundfish | 1,359 | 18 (1.3%) | 1,341 (98.7%) | Framework Adjustment 55 (81 FR 15003; 3/21/2016) | 1,505 | 10 (0.7%) | 1,495 (99.3%) | Framework Adjustment 56 (82 FR 28447; 6/22/2017).
Groundfish C/P | 425 | 0 (0.0%) | 425 (100.0%) | Framework Adjustment 55 (81 FR 15003; 3/21/2016) | 191 | 0 (0.0%) | 191 (100.0%) | 2017 Recreational Management Measures (82 FR 24086; 5/25/2017).
SC/OQ | 406 | 20 (4.9%) | 386 (95.1%) | Surfclam/Ocean Quahog Amendment 17 (81 FR 14072; 3/16/2016) | 358 | 10 (2.8%) | 348 (97.2%) | 2017-2018 Surfclam/Ocean Quahog Specifications (82 FR 24086; 11/23/2016).

Table 3—Business Revenue by Type
Year | NAICS classification | Business type | Business revenue | Shellfish revenue | Finfish revenue | For-hire revenue
2012 | Finfish | Small | $217,560,996 | $33,546,543 | $183,380,312 | $634,141
2012 | For-hire | Small | 56,153,981 | 331,674 | 611,532 | 55,210,775
2012 | Shellfish | Large | 265,665,371 | 242,801,113 | 22,860,746 | 3,512
2012 | Shellfish | Small | 710,485,816 | 679,195,607 | 30,897,738 | 392,471
2013 | Finfish | Small | 191,870,635 | 25,008,297 | 166,326,851 | 535,487
2013 | For-hire | Small | 55,556,751 | 125,755 | 588,984 | 54,842,012
2013 | Shellfish | Large | 228,892,465 | 208,244,173 | 20,642,659 | 5,633
2013 | Shellfish | Small | 690,608,565 | 663,848,959 | 26,381,386 | 378,220
2014 | Finfish | Small | 209,370,022 | 23,888,931 | 185,335,274 | 145,817
2014 | For-hire | Small | 57,843,562 | 15,735 | 412,061 | 57,415,766
2014 | Shellfish | Large | 223,065,022 | 202,580,548 | 20,484,474 |
2014 | Shellfish | Small | 741,518,137 | 717,031,087 | 24,316,466 | 170,584

Table 4—Number of Businesses and Revenue Generated by Small and Large Businesses, by Commercial Gear Classification
[MBTG=Mobile bottom-tending gear, Groundfish=gear capable of catching groundfish, Both=Both MBTG and Groundfish designation, Midwater = Midwater trawls, Clam = clam dredge. Note some data not presented for Privacy Concerns]
Year | Gear type | Business type | Number of businesses | VTR revenue
2012 | Both | Large | 17 | $231,658,238
2012 | Both | Small | 574 | 580,827,338
2013 | Both | Large | 17 | 185,435,086
2013 | Both | Small | 539 | 445,971,382
2014 | Both | Large | 17 | 173,348,111
2014 | Both | Small | 528 | 396,470,511
2012 | Clam | Large | 5 | 31,160,893
2012 | Clam | Small | 42 | 27,738,596
2013 | Clam | Large | 4 | 30,008,134
2013 | Clam | Small | 47 | 27,874,110
2014 | Clam | Large | 2 |
2014 | Clam | Small | 41 | 26,867,813
2012 | Groundfish | Large | 2 |
2012 | Groundfish | Small | 668 | 74,103,358
2013 | Groundfish | Large | 2 |
2013 | Groundfish | Small | 605 | 47,920,414
2014 | Groundfish | Large | 1 |
2014 | Groundfish | Small | 592 | 48,959,328
2012 | MBTG | Large | 3 | 1,072,716
2012 | MBTG | Small | 125 | 6,120,800
2013 | MBTG | Large | 3 | 1,375,902
2013 | MBTG | Small | 87 | 2,940,183
2014 | MBTG | Large | 3 | 1,216,387
2014 | MBTG | Small | 26 | 2,857,405
2012 | Midwater | Large | 3 | 9,289,884
2012 | Midwater | Small | 14 | 22,865,976
2013 | Midwater | Large | 3 | 5,535,922
2013 | Midwater | Small | 13 | 26,214,983
2014 | Midwater | Large | 3 | 4,909,077
2014 | Midwater | Small | 14 | 25,058,119
2012 | Other | Large | 2 |
2012 | Other | Small | 566 | 79,087,347
2013 | Other | Large | 4 |
2013 | Other | Small | 539 | 80,355,177
2014 | Other | Large | 3 |
2014 | Other | Small | 514 | 84,446,720

Description of the Projected Reporting, Record-Keeping, and Other Compliance Requirements of This Proposed Rule

The proposed action does not contain a collection-of-information requirement subject to review and approval by the Office of Management and Budget (OMB) under the Paperwork Reduction Act (PRA).

Federal Rules Which May Duplication, Overlap, or Conflict With This Proposed Rule

The proposed action does not duplicate, overlap, or conflict with any other Federal laws.

Description of Significant Alternatives to the Proposed Action Which Accomplish the Stated Objectives of Applicable Statutes and Which Minimize Any Significant Economic Impact on Small Entities

The economic impacts of each proposed measure is discussed in more detail in Volumes 3, 4, and 5 of the EIS. Because the primary objective of the Amendment is to comply with the Magnuson-Stevens Act requirement to minimize to the extent practicable the adverse effects of fishing on EFH, a variety of combinations of areas could have achieved those goals. The EFH and HAPC designations are primarily administrative in nature and are not expected to result in any direct economic impacts to the fisheries; although, indirect positive affects stocks are expected.

Habitat Management Measure Alternatives

In the Eastern Gulf of Maine, the Council recommends establishing the Small Eastern Maine Habitat Management Area (HMA), closed to all mobile bottom-tending gears. (Note, the proposed regulations refer to this area as simply the “Eastern Maine HMA.”) Other alternatives considered would have continued with no habitat management in this sub-region or implemented one or more additional area. The Toothaker Ridge HMA, the Large Eastern Maine HMA, the Machias HMA, and the Small Eastern Maine were assembled into two alternatives.

In the Central Gulf of Maine, the Council recommends maintaining the existing Cashes Ledge Groundfish Closure Area, modifying the existing Jeffreys Bank and Cashes Ledge Habitat Closure Areas, with their current fishing restrictions and exemptions, and establishing the Fippennies Ledge HMA, closed to mobile bottom-tending gears, and the Ammen Rock HMA, closed to all fishing except lobster traps. Other alternatives considered would have various combinations of eight total areas. In addition to the areas recommended as preferred, the Council considered habitat management in the existing Jeffreys Bank and Cashes Ledge habitat closure areas, two areas on Platts Bank and a small area on the top of Fippennies Ledge. The Council did not recommend the areas on Platts Bank because of the concern regarding the displacement of current fishing and the economic impact to a sub-set of the fleet.

In the Western Gulf of Maine, the Council recommends maintaining the existing Western Gulf of Maine Habitat Closure Area, closed to mobile bottom-tending gears, and modifying the eastern boundary of the Western Gulf of Maine [Groundfish] Closure Area to align with the Habitat Closure Area, while maintaining the current fishing restrictions and requirements. The Council also recommends creating an exemption area within the northwest corner of those closures for shrimp trawls and designating the existing Roller Gear Restricted Area requirements as a habitat protection measure. Other alternatives would have established a large (Alternatives 3 and 4) or small (Alternative 5) version of a closure area along the state waters boundaries of New Hampshire and Maine covering Bigelow Bight, which was deemed by the Council to have overly severe economic impacts. Still other options included consideration of breaking up the existing Western Gulf of Maine Habitat Closure Area to focus on the most vulnerable sections of Jeffreys Ledge and Stellwagen Bank, either in two smaller combinations (Alternatives 4 and 5) or only a larger section of the Stellwagen Bank area (Alternatives 3 and 6). Finally, one option would have implemented the roller gear restriction over only the footprint of the other proposed habitat management areas (Alternative 7b).

On Georges Bank, the Council recommends removing the year-round and habitat closures of Closed Areas I and II and replacing them with three new areas: (1) The Georges Shoal 2 HMA, closed to mobile bottom-tending gear, with a 1-year delay in closure to hydraulic clam dredges; (2) the Northern Edge Reduced Impact HMA, closed to mobile bottom-tending gear, with two exceptions described below; and (3) the Northern Edge Mobile Bottom-Tending Gear HMA, closed to mobile bottom-tending gear without any exceptions. Exemptions to the Reduced Impact HMA are scallop dredge fishing in accordance with the scallop rotational area program, and trawl fishing to the west of the existing western boundary of Closed Area II (67°20′W long.), in what is now the Eastern Georges Bank Special Access Program. In addition, any portions of the Closed Area II groundfish closed area north of 41°30′N lat. would be closed to scallop fishing between June 15 and October 31 of each year. The remainder of the existing Closed Area I Habitat and Groundfish Closure Areas and Closed Area II Groundfish Closure Area would be opened, expect for seasonal spawning protection.

Various combinations of 19 areas, including the 5 existing habitat and groundfish closed areas, were considered for this sub-region. When combined, these areas covered nearly the entire Bank area from the Hague Line up to the Great South Channel. Some areas were deemed too costly from an economic standpoint because of their size or specific location. These areas included the two alternatives across the majority of the bank: The Northern Georges mobile bottom-tending gear closure (Alternative 8) and the Northern Georges gear modification area (Alternatives 5). Various options of smaller areas on Georges Shoal, namely the Georges Shoal 1 (Alternative 5), Georges Shoal Gear Modification Area (Alternative 4), Georges Shoal 2 (Alternative 7), and Western HMA (Alternative 9), were also considered. Further variations focused more on the northern edge, included the Northern Edge HMA in Alternatives 3 and 4; two variations of expanding the existing Closed Area II habitat closure (Alternatives 6A and 6B); the EFH South HMA as part of Alternative 7; the Eastern HMA and a Mortality Closure in Alternative 9.

In the Great South Channel, the Council recommends establishing the Great South Channel HMA, closed to mobile bottom-tending gear, except hydraulic clam dredges for one year, outside of the northeast corner of the area. The Council is also recommending establishing two HMAs on Cox Ledge, closed to hydraulic clam dredges, and requiring no ground cables on trawls fishing in the areas. The Nantucket Lightship Habitat Closure Area and the Nantucket Lightship Closed Area would be removed. Other alternatives were variations around the proposed alternative, some extending farther to the east, and some extending farther to the west. The Council also considered a single box to cover both Cox Ledge areas.

Groundfish Spawning Measure Alternatives

In the Gulf of Maine, the Council is recommending establishing two new, relatively small cod spawning protections. They include the Winter Massachusetts Bay Spawning Closure, which would be in effect from November 1-January 31 of each year. The Council also recommends a 2-week closure (April 15-April 30) within statistical area 125. Other alternatives considered would have reinstated or added to existing rolling closures in the Western Gulf of Maine.

On Georges Bank, the Council is recommending maintaining the existing Closed Area II Groundfish Closure Area and the Closed Area I North Habitat Closed Area as seasonal closures from February 1-April 15. The Council is also recommending the removal of the May Georges Bank Spawning Closure. The Council considered making all of the existing Closed Area I groundfish closure area a seasonal spawning closure, but instead chose just the subset of that area in the northern portion.

Management alternatives in both regions included all commercial gears capable of catching groundfish (recreational fishing exempted), all commercial and recreational gears capable of catching groundfish, and an exemption for scallop dredges.

Dedicated Habitat Research Area Alternatives

The Council is proposing to establish two DHRAs. The DHRAs would be effective for 3 years, at which time the Regional Administrator would confer with the Council as to whether the designation should be retained. The Council considered three potential DHRAs, with varying management restrictions within them. The Council is recommending establishing the Georges Bank DHRA (footprint is the same as the existing Closed Area I South Habitat Closure) and the Stellwagen DHRA (footprint within the existing Western Gulf of Maine Habitat Closure). The Council considered two “reference areas” within the Stellwagen DHRA that would have prohibited all fishing, including recreational groundfish fishing. The Council is proposing the Stellwagen DHRA with no reference area. The Georges Bank DHRA would be closed to all mobile bottom-tending gear. The Stellwagen DHRA would be closed to all mobile bottom-tending gear, sink gillnet gear, and demersal longline gear.

Framework Adjustments and Monitoring

The Council is recommending that the designation or removal of HMAs and changes to fishing restrictions within HMAs be considered in a framework adjustment. In addition, the Council is proposing a review process to evaluate the performance of habitat and spawning protection measures. Finally, the Council is proposing to identify and periodically revise research priorities to improve habitat and spawning area monitoring. Alternatively, the Council considered not implementing a new process for habitat and spawning protection measures review and modification and using the existing ad-hoc process under its authority currently.

List of Subjects in 50 CFR Part 648

Fisheries, Fishing, Recordkeeping and reporting requirements.

Dated: October 27, 2017.
Samuel D. Rauch III,
Deputy Assistant Administrator for Regulatory Programs, National Marine Fisheries Service.

For the reasons stated in the preamble, 50 CFR part 648 is proposed to be amended as follows:

PART 648—FISHERIES OF THE NORTHEASTERN UNITED STATES

1. The authority citation for part 648 continues to read as follows:

Authority: 16 U.S.C. 1801 et seq.

§ 648.2 [Amended]

2. Amend § 648.2 follows:

a. Revise the definition of “bottom-tending mobile gear,”

b. Add a definition for “bridles,” in alphabetical order,

c. Revise the definition of “gillnet gear capable of catching multispecies,”

d. Add a definition for “ground cables,” in alphabetical order, and

e. Revise the definition of “Open areas.”

* * * * *

Bottom-tending mobile gear, means gear in contact with the ocean bottom, and towed from a vessel, which is moved through the water during fishing in order to capture fish, and includes otter trawls, beam trawls, hydraulic dredges, non-hydraulic dredges, and seines (with the exception of a purse seine).

* * * * *

Bridles connect the wings of a bottom trawl to the ground cables. The ground cables lead to the doors or otter boards. The doors are attached to the towing vessel via steel cables, referred to as wires or warps. Each net has two sets of bridles, one on each side.

* * * * *

Gillnet gear capable of catching multispecies means all gillnet gear except pelagic gillnet gear specified at § 648.81(b)(2)(ii) and (d)(5)(ii) and pelagic gillnet gear that is designed to fish for and is used to fish for or catch tunas, swordfish, and sharks.

* * * * *

Ground cables on a bottom trawl run between the bridles, which attach directly to the wings of the net, and the doors, or otter boards. The doors are attached to the towing vessel via steel cables, referred to as wires or warps.

* * * * *

Open areas, with respect to the Atlantic sea scallop fishery, means any area that is not subject to restrictions of the Sea Scallop Rotational Areas specified in §§ 648.59 and 648.60, the Northern Gulf of Maine Management Area specified in § 648.62, EFH Closed Areas specified in §§ 648.61 and 648.370, Dedicated Habitat Research areas specified in § 648.371, or the Frank R. Lautenberg Deep-Sea Coral Protection Area described in § 648.372.

* * * * *

3. Amend § 648.11 by revising paragraph (m)(1) to read as follows:

* * * * *

(m) Atlantic herring observer coverage—(1) Pre-trip notification. At least 48 hr prior to the beginning of any trip on which a vessel may harvest, possess, or land Atlantic herring, a vessel issued a Limited Access Herring Permit or a vessel issued an Areas ⅔ Open Access Herring Permit on a declared herring trip or a vessel issued an All Areas Open Access Herring Permit fishing with midwater trawl gear in Management Areas 1A, 1B, and/or 3, as defined in § 648.200(f)(1) and (3), and herring carriers must provide notice of the following information to NMFS: Vessel name, permit category, and permit number; contact name for coordination of observer deployment; telephone number for contact; the date, time, and port of departure; gear type; target species; and intended area of fishing, including whether the vessel intends to engage in fishing in the Northeast Multispecies Closed Areas (Closed Area I North (648.81(c)(3)), Closed Area II (648.81(c)(4)), Cashes Ledge Closure Area (648.81(a)(3)), and Western GOM Closure Area (648.81(a)(4))) at any point in the trip. Trip notification calls must be made no more than 10 days in advance of each fishing trip. The vessel owner, operator, or manager must notify NMFS of any trip plan changes at least 12 hr prior to vessel departure from port.

* * * * *

§ 648.14 [Amended]

4. Amend § 648.14 as follows:

a. Revise paragraph (b)(10),

b. Add paragraphs (b)(11) and (12),

c. Revise paragraphs (i)(1)(vi)(A)(1) and (2),

d. Revise paragraph (k)(6)(i)(E),

e. Revise paragraph (k)(6)(ii)(A)(5),

f. Revise paragraphs (k)(7)(i)(A) and (B),

g. Revise paragraphs (k)(7)(i)(C)(1) through (3),

h. Revise paragraph (k)(7)(i)(D),

i. Remove and reserve paragraphs (k)(7)(i)(E), (F), and (G),

j. Remove and reserve paragraph (k)(7)(ii)(A),

k. Revise paragraph (k)(12)(iii)(B),

l. Revise paragraph (k)(16)(iii)(B), and

m. Revise paragraphs (r)(2)(v) and (vi).

The revisions to read as follows:

§ 648.14 Prohibitions.

* * * * *

(b) * * *

(10) Fish with bottom-tending gear within the Frank R. Lautenberg Deep-sea Coral Protection Area described at § 648.372, unless transiting pursuant to § 648.372(d), fishing lobster trap gear in accordance with § 697.21 of this chapter, or fishing red crab trap gear in accordance with § 648.264. Bottom-tending gear includes but is not limited to bottom-tending otter trawls, bottom-tending beam trawls, hydraulic dredges, non-hydraulic dredges, bottom-tending seines, bottom longlines, pots and traps, and sink or anchored gill nets.

(11) Habitat Management Area Restrictions. If fishing with bottom-tending mobile gear, fish in, enter, be on a fishing vessel in, the EFH closure areas described in § 648.371, unless otherwise exempted.

(12) Unless otherwise exempted, fish in the Dedicated Habitat Research Areas defined in § 648.371.

* * * * *

(i) * * *

(1) * * *

(vi) * * *

(A) * * *

(1) Fish for scallops in, or possess or land scallops from, the EFH Closed Areas and Habitat Management Areas specified in § 648.61 and 648.370, respectively.

(2) Transit or enter the EFH Closure Areas or Habitat Management Areas specified in § 648.61 and 648.370, respectively, except as provided by § 648.61(b).

* * * * *

(k) * * *

(6) * * *

(i) * * *

(E) Use, set, haul back, fish with, possess on board a vessel, unless stowed and not available for immediate use as defined in § 648.2, or fail to remove, sink gillnet gear and other gillnet gear capable of catching NE multispecies, with the exception of single pelagic gillnets (as described in § 648.81(b)(2)(ii) and (d)(5)(ii)), in the areas and for the times specified in § 648.80(g)(6)(i) and (ii), except as provided in § 648.80(g)(6)(i) and (ii), and § 648.81(b)(2)(ii) and (d)(5)(ii), or unless otherwise authorized in writing by the Regional Administrator.

* * * * *

(ii)

(A)

(5) Enter, fail to remove sink gillnet gear or gillnet gear capable of catching NE multispecies from, or be in the areas, and for the times, described in § 648.80(g)(6)(i) and (ii), except as provided in §§ 648.80(g)(6)(i) and 648.81(i).

* * * * *

(7) * * *

(i) * * *

(A) Enter, be on a fishing vessel in, or fail to remove gear from the EEZ portion of the areas described in § 648.81(a)(3), (a)(4), and (d)(3), except as provided in § 648.81(a)(2), (d)(2), and (i).

(B) Fish for, harvest, possess, or land regulated species in or from the closed areas specified in § 648.81(a) through (d) and (n), unless otherwise specified in § 648.81(c)(2)(iii), (d)(5)(i), (d)(5)(iv), (d)(5)(viii) and (ix), (i), (b)(2), or as authorized under § 648.85.

(C) Restricted Gear Areas. (1) Fish, or be in the areas described in § 648.81(f)(3) through (6) on a fishing vessel with mobile gear during the time periods specified in § 648.81(f)(1), except as provided in § 648.81(f)(2).

(2) Fish, or be in the areas described in § 648.81(f)(3) through (5) on a fishing vessel with lobster pot gear during the time periods specified in § 648.81(f)(1).

(3) Deploy in or fail to remove lobster pot gear from the areas described in § 648.81(f)(3) through (5), during the time periods specified in § 648.81(f)(1).

(D) Georges Bank Seasonal Closure Areas. Enter, fail to remove gear from, or be in the areas described in § 648.81(c) during the time periods specified, except as provided in § 648.81(c)(2).

* * * * *

(12) * * *

(iii) * * *

(B) Enter or fish in Closed Area II as specified in § 648.81(c)(4), unless declared into the area in accordance with § 648.85(b)(3)(v) or § 648.85(b)(8)(v)(D).

* * * * *

(16) * * *

(iii) * * *

(B) Fail to comply with the requirements specified in § 648.81(d)(5)(v) when fishing in the areas described in § 648.81(b)(3), (b)(4), and (d) during the time periods specified.

* * * * *

(r) * * *

(2) * * *

(v) Fish with midwater trawl gear in any Northeast Multispecies Closed Area, as defined in § 648.81(a), without a NMFS-approved observer on board, if the vessel has been issued an Atlantic herring permit.

(vi) Slip or operationally discard catch, as defined at § 648.2, unless for one of the reasons specified at § 648.202(b)(2), if fishing any part of a tow inside the Northeast Multispecies Closed Areas, as defined at § 648.81(a).

* * * * *

§ 648.27 [Removed].

5. Remove § 648.27

6. Add § 648.58 to read as follows:

§ 648.58 Closed Area II Seasonal Scallop Closure.

Closed Area II Seasonal Scallop Closure. From June 15 through October 31 of each year, no fishing vessel may fish with scallop dredge gear in the portion of Closed Area II, as specified in section 648.61(c)(4) and section 648.81(c)(4), north of 41°30′ N. lat.

7. In § 648.59, revise paragraph (a) to read as follows:

§ 648.59 Sea Scallop Rotational Area Management Program and Access Program requirements.

(a) The Sea Scallop Rotational Area Management Program consists of Scallop Rotational Areas, as defined in § 648.2. Guidelines for this area rotation program (i.e., when to close an area and reopen it to scallop fishing) are provided in § 648.55(a)(6). Whether a rotational area is open or closed to scallop fishing in a given year, and the appropriate level of access by limited access and LAGC IFQ vessels, are specified through the specifications or framework adjustment processes defined in § 648.55. When a rotational area is open to the scallop fishery, it is called an Access Area and scallop vessels fishing in the area are subject to the Access Area Program Requirements specified in this section. Areas not defined as Scallop Rotational Areas specified in § 648.60, EFH Closed Areas specified in § 648.61 and 648.370, Dedicated Habitat Research Areas specified in 648.371, or areas closed to scallop fishing under other FMPs, are governed by other management measures and restrictions in this part and are referred to as Open Areas.

8. In § 648.60, revise paragraph (c)(1) and footnote 1 to read as follows:

§ 648.60 Sea Scallop Rotational Areas.

* * * * *

(c) Closed Area I Scallop Rotational Area. (1) The Closed Area I Scallop Rotational Area is defined by straight lines connecting the following points in the order stated (copies of a chart depicting this area are available from the Regional Administrator upon request), and so that the line connecting points CAIA3 and CAIA4 is the same as the portion of the western boundary line of Closed Area I, defined in § 648.61(c)(3), that lies between points CAIA3 and CAIA4:

Point | N. lat. | W. long. | Note
CAIA1 | 41°26′ N. | 68°30′ W. |
CAIA2 | 40°58′ N. | 68°30′ W. |
CAIA3 | 40°54.95′ N. | 68°53.37′ W. | (¹)
CAIA4 | 41°04′ N. | 69°01′ W. | (¹)
CAIA1 | 41°26′ N. | 68°30′ W. |
¹ From Point CAIA3 to Point CAIA4 along the western boundary of Closed Area I, defined in § 648.61(c)(3).

9. In § 648.61, revise the section heading and add paragraph (c) to read as follows:

§ 648.61 EFH and Groundfish Closed Areas.

* * * * *

(c) Groundfish Closure Areas. No vessel fishing for scallops, or person on a vessel fishing for scallops, may enter, fish in, or be in the Closure Areas described in paragraphs (c)(1) through (5) of this section, unless otherwise exempted in the scallop access area program, described in § 648.59. A chart depicting these areas is available from the Regional Administrator upon request.

(1) Western Gulf of Maine Closure Area. The Western Gulf of Maine Closure Area is defined by straight lines connecting the following points in the order stated:

Western Gulf of Maine Closure Area
Point | N. lat. | W. long.
WGM1 | 42°15′ | 70°15′
WGM2 | 42°15′ | 69°55′
WGM3 | 43°15′ | 69°55′
WGM4 | 43°15′ | 70°15′
WGM1 | 42°15′ | 70°15′

(2) Cashes Ledge Closure Area. The Cashes Ledge Closure Area is defined by straight lines connecting the following points in the order stated:

Cashes Ledge Closure Area
Point | N. lat. | W. long.
CL1 | 43°07′ | 69°02′
CL2 | 42°49.5′ | 68°46′
CL3 | 42°46.5′ | 68°50.5′
CL4 | 42°43.5′ | 68°58.5′
CL5 | 42°42.5′ | 69°17.5′
CL6 | 42°49.5′ | 69°26′
CL1 | 43°07′ | 69°02′

(3) Closed Area I. Closed Area I is defined by straight lines connecting the following points in the order stated:

Closed Area I
Point | N. lat. | W. long.
CI1 | 41°30′ | 69°23′
CI2 | 40°45′ | 68°45′
CI3 | 40°45′ | 68°30′
CI4 | 41°30′ | 68°30′
CI1 | 41°30′ | 69°23′

(4) Closed Area II. Closed Area II is defined by straight lines connecting the following points in the order stated:

Closed Area II
Point | N. lat. | W. long.
C1I1 | 41°00′ | 67°20′
C1I2 | 41°00′ | 66°35.8′
G5 | 41°18.6′ | 66°24.8′ ¹
C1I3 | 42°22′ | 67°20′ ¹
C1I1 | 41°00′ | 67°20′ ¹
¹ The U.S.-Canada Maritime Boundary.

(5) Nantucket Lightship Closure Area. The Nantucket Lightship Closure Area is defined by straight lines connecting the following points in the order stated:

Nantucket Lightship Closure Area
Point | N. lat. | W. long.
G10 | 40°50′ | 69°00′
CN1 | 40°20′ | 69°00′
CN2 | 40°20′ | 70°20′
CN3 | 40°50′ | 70°20′
G10 | 40°50′ | 69°00′

* * * * *

§ 648.80 [Amended]

10. Amend § 648.80 as follows:

a. Revise paragraph (a)(9)(i)(A),

b. Revise paragraph (a)(11) introductory text and paragraph (a)(11)(i)(C),

c. Revise the introductory texts in paragraphs (a)(13), (14), (15), (16), (18), and (19),

d. Remove paragraph (b)(11)(ii)(D),

e. Revise the introductory text for paragraph (d)(2) and revise paragraph (d)(2)(i),

f. Revise paragraph (d)(5), and

g. Revise paragraphs (g)(6)(i) and (ii).

The revisions to read as follows:

* * * * *

(a) * * *

(9) Small Mesh Area 1/Small Mesh Area 2.

(i) Description.

(A) Unless otherwise prohibited in § 648.81, § 648.370, or § 648.371, a vessel subject to the minimum mesh size restrictions specified in paragraphs (a)(3) or (4) of this section may fish with or possess nets with a mesh size smaller than the minimum size, provided the vessel complies with the requirements of paragraphs (a)(5)(ii) or (a)(9)(ii) of this section, and § 648.86(d), from July 15 through November 15, when fishing in Small Mesh Area 1; and from January 1 through June 30, when fishing in Small Mesh Area 2. While lawfully fishing in these areas with mesh smaller than the minimum size, an owner or operator of any vessel may not fish for, possess on board, or land any species of fish other than: Silver hake and offshore hake, combined, and red hake—up to the amounts specified in § 648.86(d); butterfish, Atlantic mackerel, or squid, up the amounts specified in § 648.26; spiny dogfish, up to the amount specified in § 648.235; Atlantic herring, up to the amount specified in § 648.204; and scup, up to the amount specified in § 648.128.

* * * * *

(11) GOM Scallop Dredge Exemption Area. Unless otherwise prohibited in § 648.81, § 648.370, or § 648.371, vessels with a limited access scallop permit that have declared out of the DAS program as specified in § 648.10, or that have used up their DAS allocations, and vessels issued a General Category scallop permit, may fish in the GOM Regulated Mesh Area specified in paragraph (a)(1) of this section, when not under a NE multispecies DAS, providing the vessel fishes in the GOM Scallop Dredge Exemption Area and complies with the requirements specified in paragraph (a)(11)(i) of this section. The GOM Scallop Dredge Fishery Exemption Area is defined by the straight lines connecting the following points in the order stated (copies of a map depicting the area are available from the Regional Administrator upon request):

* * * * *

(i) * * *

(C) The exemption does not apply to the Cashes Ledge Closure Area or the Western GOM Area Closure specified in § 648.81(a)(3) and (4), respectively.

* * * * *

(13) GOM/GB Dogfish and Monkfish Gillnet Fishery Exemption Area. Unless otherwise prohibited in § 648.81, § 648.370, or § 648.371, a vessel may fish with gillnets in the GOM/GB Dogfish and Monkfish Gillnet Fishery Exemption Area when not under a NE multispecies DAS if the vessel complies with the requirements specified in paragraph (a)(13)(i) of this section. The GOM/GB Dogfish and Monkfish Gillnet Fishery Exemption Area is defined by straight lines connecting the following points in the order stated:

* * * * *

(14) GOM/GB Dogfish Gillnet Exemption. Unless otherwise prohibited in § 648.81, § 648.370, or § 648.371, a vessel may fish with gillnets in the GOM/GB Dogfish and Monkfish Gillnet Fishery Exemption Area when not under a NE multispecies DAS if the vessel complies with the requirements specified in paragraph (a)(14)(i) of this section. The area coordinates of the GOM/GB Dogfish and Monkfish Gillnet Fishery Exemption Area are specified in paragraph (a)(13) of this section.

* * * * *

(15) Raised Footrope Trawl Exempted Whiting Fishery. Unless otherwise prohibited in § 648.370 or § 648.371, vessels subject to the minimum mesh size restrictions specified in paragraphs (a)(3) or (4) of this section may fish with, use, or possess nets in the Raised Footrope Trawl Whiting Fishery area with a mesh size smaller than the minimum size specified, if the vessel complies with the requirements specified in paragraph (a)(15)(i) of this section. This exemption does not apply to the Cashes Ledge Closure Areas or the Western GOM Area Closure specified in § 648.81(a)(3) and (4), respectively. The Raised Footrope Trawl Whiting Fishery Area (copies of a chart depicting the area are available from the Regional Administrator upon request) is defined by straight lines connecting the following points in the order stated:

* * * * *

(16) GOM Grate Raised Footrope Trawl Exempted Whiting Fishery. Unless otherwise prohibited in § 648.370 or § 648.371, vessels subject to the minimum mesh size restrictions specified in paragraphs (a)(3) or (4) of this section may fish with, use, and possess in the GOM Grate Raised Footrope Trawl Whiting Fishery area from July 1 through November 30 of each year, nets with a mesh size smaller than the minimum size specified, if the vessel complies with the requirements specified in paragraphs (a)(16)(i) and (ii) of this section. The GOM Grate Raised Footrope Trawl Whiting Fishery Area (copies of a chart depicting the area are available from the Regional Administrator upon request) is defined by straight lines connecting the following points in the order stated:

* * * * *

(18) Great South Channel Scallop Dredge Exemption Area. Unless otherwise prohibited in § 648.370 or § 648.371, vessels issued a LAGC scallop permit, including limited access scallop permits that have used up their DAS allocations, may fish in the Great South Channel Scallop Dredge Exemption Area, as defined under paragraph (a)(18)(i) of this section, when not under a NE multispecies or scallop DAS or on a sector trip, provided the vessel complies with the requirements specified in paragraph (a)(18)(ii) of this section and applicable scallop regulations in subpart D of this chapter.

* * * * *

(19) Cape Cod Spiny Dogfish Exemption Areas. Unless otherwise prohibited in § 648.370 or § 648.371, vessels issued a NE multispecies limited access permit that have declared out of the DAS program as specified in § 648.10, or that have used up their DAS allocations, may fish in the Eastern or Western Cape Cod Spiny Dogfish Exemption Area as defined under paragraph (a)(19)(i) through (a)(19)(ii) of this section, when not under a NE multispecies or scallop DAS, provided the vessel complies with the requirements for the Eastern or Western area, specified in paragraph (a)(19)(i) and (a)(19)(ii) of this section, respectively.

* * * * *

(d) * * *

(2) When fishing under this exemption in the GOM/GB Exemption Area, as defined in paragraph (a)(17) of this section, the vessel has on board a letter of authorization issued by the Regional Administrator, and complies with the following restrictions:

(i) The vessel only fishes for, possesses, or lands Atlantic herring, blueback herring, or mackerel in areas north of 42°20′ N. lat. and in the areas described in § 648.81(c)(3), and (c)(4); and Atlantic herring, blueback herring, mackerel, or squid in all other areas south of 42°20′ N. lat.; and

* * * * *

(5) To fish for herring under this exemption, a vessel issued an All Areas Limited Access Herring Permit and/or an Areas 2 and 3 Limited Access Herring Permit fishing on a declared herring trip, or a vessel issued a Limited Access Incidental Catch Herring Permit and/or an Open Access Herring Permit fishing with midwater trawl gear in Management Areas 1A, 1B, and/or 3, as defined in § 648.200(f)(1) and (3), must provide notice of the following information to NMFS at least 72 hr prior to beginning any trip into these areas for the purposes of observer deployment: Vessel name; contact name for coordination of observer deployment; telephone number for contact; the date, time, and port of departure; and whether the vessel intends to engage in fishing in Closed Area I, as defined in § 648.81(c)(3), at any point in the trip; and

* * * * *

(g) * * *

(6) Gillnet requirements to reduce or prevent marine mammal takes—(i) Requirements for gillnet gear capable of catching NE multispecies to reduce harbor porpoise takes. In addition to the requirements for gillnet fishing identified in this section, all persons owning or operating vessels in the EEZ that fish with sink gillnet gear and other gillnet gear capable of catching NE multispecies, with the exception of single pelagic gillnets (as described in § 648.81(b)(2)(ii) and (d)(5)(ii)), must comply with the applicable provisions of the Harbor Porpoise Take Reduction Plan found in § 229.33 of this title.

(ii) Requirements for gillnet gear capable of catching NE multispecies to prevent large whale takes. In addition to the requirements for gillnet fishing identified in this section, all persons owning or operating vessels in the EEZ that fish with sink gillnet gear and other gillnet gear capable of catching NE multispecies, with the exception of single pelagic gillnets (as described in § 648.81(b)(2)(ii) and (d)(5)(ii)), must comply with the applicable provisions of the Atlantic Large Whale Take Reduction Plan found in § 229.32 of this title.

* * * * *

11. Revise § 648.81 to read as follows:

§ 648.81 NE multispecies year-round and seasonal closed areas.

(a) Year-round groundfish closed areas. (1) No fishing vessel or person on a fishing vessel may enter, fish, or be in, and no fishing gear capable of catching NE multispecies may be used or on board a vessel in, the Cashes Ledge or Western Gulf of Maine Closure Areas, unless otherwise allowed by or exempted under this part. Charts of the areas described in this section are available from the Regional Administrator upon request.

(2) Exemptions. Unless restricted by the requirements of subpart (P) or elsewhere in this part, paragraph (a)(1) of this section does not apply to a fishing vessel or person on a fishing vessel when fishing under the following conditions:

(i) Fishing with or using exempted gear as defined under this part, except for pelagic gillnet gear capable of catching NE multispecies, unless fishing with a single pelagic gillnet not longer than 300 ft (91.4 m) and not greater than 6 ft (1.83 m) deep, with a maximum mesh size of 3 inches (7.6 cm), provided that:

(A) The net is attached to the boat and fished in the upper two-thirds of the water column;

(B) The net is marked with the owner's name and vessel identification number;

(C) No regulated species or ocean pout are retained; and

(D) No other gear capable of catching NE multispecies is on board;

(ii) Fishing in the Midwater Trawl Gear Exempted Fishery as specified in § 648.80(d);

(iii) Fishing in the Purse Seine Gear Exempted Fishery as specified in § 648.80(e);

(iv) Fishing under charter/party or recreational regulations specified in § 648.89, provided that:

(A) A letter of authorization issued by the Regional Administrator is onboard the vessel, which is valid from the date of enrollment until the end of the fishing year;

(B) No harvested or possessed fish species managed by the NEFMC or MAFMC are sold or intended for trade, barter or sale, regardless of where the fish are caught;

(C) Only rod and reel or handline gear is on board the vessel; and

(D) No NE multispecies DAS are used during the entire period for which the letter of authorization is valid.

(3) Cashes Ledge Closure Area. The Cashes Ledge Closure Area is defined by straight lines connecting the following points in the order stated:

Cashes Ledge Closure Area
Point | N. lat. | W. long.
CL1 | 43°07′ | 69°02′
CL2 | 42°49.5′ | 68°46′
CL3 | 42°46.5′ | 68°50.5′
CL4 | 42°43.5′ | 68°58.5′
CL5 | 42°42.5′ | 69°17.5′
CL6 | 42°49.5′ | 69°26′
CL1 | 43°07′ | 69°02′

(4) Western Gulf of Maine Closure Area. The Western Gulf of Maine Closure Area is defined by straight lines connecting the following points in the order stated:

Western Gulf of Maine Closure Area
Point | N. lat. | W. long.
WGM1 | 42°15′ | 70°15′
WGM2 | 42°15′ | 69°55′
WGM3 | 43°15′ | 69°55′
WGM4 | 43°15′ | 70°15′
WGM1 | 42°15′ | 70°15′

(b) Gulf of Maine spawning groundfish closures. (1) Unless allowed in this part, no fishing vessel or person on a fishing vessel may enter, fish, or be in, and no fishing gear capable of catching NE multispecies may be used or on board a vessel in, the spawning closure areas described in paragraphs (b)(3) and (b)(4), during the times specified in this section. Charts depicting the areas defined here are available from the RA upon request.

(2) Exemptions. Paragraph (b)(1) of this section does not apply to a fishing vessel or person on a fishing vessel:

(i) That has not been issued a NE multispecies permit that is fishing exclusively in state waters;

(ii) That is fishing with or using exempted gear as defined under this part, excluding pelagic gillnet gear capable of catching NE multispecies, except for a vessel fishing with a single pelagic gillnet not longer than 300 ft (91.4 m) and not greater than 6 ft (1.83 m) deep, with a maximum mesh size of 3 inches (7.6 cm), provided:

(A) The net is attached to the vessel and fished in the upper two-thirds of the water column;

(B) The net is marked with the vessel owner's name and vessel identification number;

(C) No regulated species or ocean pout are retained; and

(D) No other gear capable of catching NE multispecies is on board;

(iii) That is fishing as a charter/party or recreational fishing vessel, provided that:

(A) With the exception of tuna, fish harvested or possessed by the vessel are not sold or intended for trade, barter, or sale, regardless of where the species are caught;

(B) Any gear other than pelagic hook and line gear, as defined in this part, is properly stowed and not available for immediate use as defined in § 648.2; and

(C) No regulated species or ocean pout are retained; and

(iv) That is transiting pursuant to paragraph (e) of this section.

(3) GOM Cod Spawning Protection Area. Except as specified in paragraph (b)(2) of this section, from April through June of each year, no fishing vessel or person on a fishing vessel may enter, fish, or be in, and no fishing gear capable of catching NE multispecies may be used or on board a vessel in, the GOM Cod Spawning Protection Area, as defined by straight lines connecting the following points in the order stated:

GOM Cod Spawning Protection Area
Point | N. latitude | W. longitude
CSPA1 | 42°50.95′ | 70°32.22′
CSPA2 | 42°47.65′ | 70°35.64′
CSPA3 | 42°54.91′ | 70°41.88′
CSPA4 | 42°58.27′ | 70°38.64′
CSPA1 | 42°50.95′ | 70°32.22′

(4) Winter Massachusetts Bay Spawning Protection Area. Except as specified in paragraph (b)(2) of this section, from November 1 through January 31 of each year, no fishing vessel or person on a fishing vessel may enter, fish, or be in, and no fishing gear capable of catching NE multispecies may be used or be on board a vessel in, the Massachusetts Bay Spawning Protection Area, as defined by a straight line connecting the following points along the Massachusetts state waters boundary:

Winter Massachusetts Bay Spawning Protection Area
Point | N. latitude | W. longitude
1 | 42°23.6′ | 70°39.2′
2 | 42°07.7′ | 70°26.8′

(1) Western/southern boundary at Massachusetts state waters

(5) Spring Massachusetts Bay Spawning Protection Area. (i) From April 15 through April 30 of each year, no fishing vessel or person on a fishing vessel may enter, fish, or be in, and no fishing gear capable of catching NE multispecies may be used or on board a vessel in the thirty- minute block defined by straight lines connecting the following points in the order stated:

Spring Massachusetts Bay Spawning Protection Area
Point | N. latitude | W. longitude
1 | 42°00′ | 70°30′
2 | 42°30′ | 70°30′
3 | Massachusetts coastline south of Duxbury and 42°00′ N.
4 | Massachusetts coastline near Marblehead and 42°30′ N.

(ii) Unless otherwise restricted in this part, the Block 125 closure does not apply to a fishing vessel or person on a fishing vessel that meets the criteria in paragraphs (d)(5)(ii) through (vi) and (d)(5)(x) of this section (listed under the exemptions for the GOM Cod Protection Closures). This includes recreational vessels meeting the criteria specified in paragraphs (d)(5)(v)(A) through (D) of this section.

(c) Georges Bank Spawning Groundfish Closures. (1) Unless otherwise allowed in this part, no fishing vessel or person on a fishing vessel may enter, fish, or be in, and no fishing gear capable of catching NE multispecies may be used on board a vessel in the spawning closure areas described in paragraphs (b)(3) and (b)(4), and during the times specified in this section. Charts depicting the areas defined here are available from the RA upon request.

(2) Exemptions. Paragraph (c)(1) of this section does not apply to a fishing vessel or person on a fishing vessel:

(i) That is fishing with or using exempted gear as defined under this part, excluding pelagic gillnet gear capable of catching NE multispecies, except for vessels fishing with a single pelagic gillnet not longer than 300 ft (91.4 m) and not greater than 6 ft (1.83 m) deep, with a maximum mesh size of 3 inches (7.6 cm), provided:

(A) The net is attached to the vessel and fished in the upper two-thirds of the water column;

(B) The net is marked with the vessel owner's name and vessel identification number;

(C) No regulated species or ocean pout are retained; and

(D) No other gear capable of catching NE multispecies is on board;

(ii) That is fishing for scallops consistent with the requirements of the scallop fishery management plan, including rotational access program requirements specified in § 648.59.

(iii) That is fishing in the mid-water trawl exempted fishery

(iv) That is transiting pursuant to the requirements described in § 648.2.

(3) Closed Area I North. Except as specified in paragraph (c)(2) of this section, from February 1 through April 15 of each year, no fishing vessel or person on a fishing vessel may enter, fish, or be in; and no fishing gear capable of catching NE multispecies may be used or on board a vessel in, Closed Area I North, as defined by straight lines connecting the following points in the order stated:

Closed Area I—North
Point | N. lat. | W. long.
CI1 | 41°30′ | 69°23′
CI4 | 41°30′ | 68°30′
CIH1 | 41°26′ | 68°30′
CIH2 | 41°04′ | 69°01′
CI1 | 41°30′ | 69°23′

(4) Closed Area II. Except as specified in paragraph (c)(2) of this section, from February 1 through April 15 of each year, no fishing vessel or person on a fishing vessel may enter, fish, or be in, and no fishing gear capable of catching NE multispecies may be used or on board a vessel in, Closed Area II, as defined by straight lines connecting the following points in the order stated:

Closed Area II
Point | N. lat. | W. long.
C1I1 | 41°00′ | 67°20′
C1I2 | 41°00′ | 66°35.8′
G5 | 41°18.6′ | 66°24.8′ ¹
C1I3 | 42°22′ | 67°20′ ¹
C1I1 | 41°00′ | 67°20′ ¹

(d) GOM Cod Protection Closures. (1) Unless otherwise allowed in this part, no fishing vessel or person on a fishing vessel may enter, fish, or be in, and no fishing gear capable of catching NE multispecies may be used or on board a vessel in, GOM Cod Protection Closures I through V as described, and during the times specified, in paragraphs (d)(4)(i) through (v) of this section.

(2) The New England Fishery Management Council shall review the GOM Cod Protection Closures Areas specified in this section when the spawning stock biomass for GOM cod reaches the minimum biomass threshold specified for the stock (50 percent of SSBMSY).

(3) Seasons. (i) GOM Cod Protection Closure I is in effect from May 1 through May 31.

(ii) GOM Cod Protection Closure II is in effect from June 1 through June 30.

(iii) GOM Cod Protection Closure III is in effect from November 1 through January 31.

(iv) GOM Cod Protection Closure IV is in effect from October 1 through October 31.

(v) GOM Cod Protection Closure V is in effect from March 1 through March 31.

(4) GOM Cod Protection Closure Areas. Charts depicting these areas are available from the Regional Administrator upon request.

(i) GOM Cod Protection Closure I. GOM Cod Protection Closure I is the area bounded by the following coordinates connected in the order stated by straight lines:

GOM Cod Protection Closure I
[May 1-May 31]
Point | N. latitude | W. longitude
CPCI 1 | 43°30′ N. | (¹)
CPCI 2 | 43°30′ N. | 69°30′ W.
CPCI 3 | 43°00′ N. | 69°30′ W.
CPCI 4 | 43°00′ N. | 70°00′ W.
CPCI 5 | 42°30′ N. | 70°00′ W.
CPCI 6 | 42°30′ N. | 70°30′ W.
CPCI 7 | 42°20′ N. | 70°30′ W.
CPCI 8 | 42°20′ N. | (²) (³)
CPCI 1 | 43°30′ N. | (¹) (³)
¹ The intersection of 43°30′ N. latitude and the coastline of Maine.
² The intersection of 42°20′ N. latitude and the coastline of Massachusetts.
³ From Point 8 back to Point 1 following the coastline of the United States.

(ii) GOM Cod Protection Closure II. GOM Cod Protection Closure II is the area bounded by the following coordinates connected in the order stated by straight lines:

GOM Cod Protection Closure II
[June 1-June 30]
Point | N. latitude | W. longitude
CPCII 1 | (¹) | 69°30′ W.
CPCII 2 | 43°30′ N. | 69°30′ W.
CPCII 3 | 43°30′ N. | 70°00′ W.
CPCII 4 | 42°30′ N. | 70°00′ W.
CPCII 5 | 42°30′ N. | 70°30′ W.
CPCII 6 | 42°20′ N. | 70°30′ W.
CPCII 7 | 42°20′ N. | (²) (³)
CPCII 8 | 42°30′ N. | (⁴) (³)
CPCII 9 | 42°30′ N. | 70°30′ W.
CPCII 10 | 43°00′ N. | 70°30′ W.
CPCII 11 | 43°00′ N. | (⁵) (⁶)
CPCII 1 | (¹) | 69°30′ W.⁶
¹ The intersection of 69°30′ W. longitude and the coastline of Maine.
² The intersection of 42°20′ N. latitude and the coastline of Massachusetts.
³ From Point 7 to Point 8 following the coastline of Massachusetts.
⁴ The intersection of 42°30′ N. latitude and the coastline of Massachusetts.
⁵ The intersection of 43°00′ N. latitude and the coastline of New Hampshire.
⁶ From Point 11 back to Point 1 following the coastlines of New Hampshire and Maine.

(iii) GOM Cod Protection Closure III. GOM Cod Protection Closure III is the area bounded by the following coordinates connected in the order stated by straight lines:

GOM Cod Protection Closure III
[November 1-January 31]
Point | N. latitude | W. longitude
CPCIII 1 | 42°30′ N. | (¹)
CPCIII 2 | 42°30′ N. | 70°30′ W.
CPCIII 3 | 42°15′ N. | 70°30′ W.
CPCIII 4 | 42°15′ N. | 70°24′ W.
CPCIII 5 | 42°00′ N. | 70°24′ W.
CPCIII 6 | 42°00′ N. | (²) (³)
CPCIII 1 | 42°30′ N. | (¹) (³)
¹ The intersection of 42°30′ N. latitude and the Massachusetts coastline.
² The intersection of 42°00′ N. latitude and the mainland Massachusetts coastline at Kingston, MA.
³ From Point 6 back to Point 1 following the coastline of Massachusetts.

(iv) GOM Cod Protection Closure IV. GOM Cod Protection Closure IV is the area bounded by the following coordinates connected in the order stated by straight lines:

GOM Cod Protection Closure IV
[October 1-October 31]
Point | N. latitude | W. longitude
CPCIV 1 | 42°30′ N. | (¹)
CPCIV 2 | 42°30′ N. | 70°00′ W.
CPCIV 3 | 42°00′ N. | 70°00′ W.
CPCIV 4 | 42°00′ N. | (²) (³)
CPCIV 1 | 42°30′ N. | (¹) (³)
¹ The intersection of 42°30′ N. latitude and the Massachusetts coastline.
² The intersection of 42°00′ N. latitude and the mainland Massachusetts coastline at Kingston, MA.
³ From Point 4 back to Point 1 following the coastline of Massachusetts.

(v) GOM Cod Protection Closure V. GOM Cod Protection Closure V is the area bounded by the following coordinates connected in the order stated by straight lines:

GOM Cod Protection Closure V
[March 1-March 31]
Point | N. latitude | W. longitude
CPCV 1 | 42°30′ N. | 70°00′ W.
CPCV 2 | 42°30′ N. | 68°30′ W.
CPCV 3 | 42°00′ N. | 68°30′ W.
CPCV 4 | 42°00′ N. | 70°00′ W.
CPCV 1 | 42°30′ N. | 70°00′ W.

(5) The GOM cod protection closures specified in this section do not apply to a fishing vessel or person on board a fishing vessel under any of the following conditions:

(i) No multispecies permit has been issued and the vessel is fishing exclusively in state waters;

(ii) Fishing with or using exempted gear as defined under this part, except for pelagic gillnet gear capable of catching NE multispecies, unless fishing with a single pelagic gillnet not longer than 300 ft (91.4 m) and not greater than 6 ft (1.83 m) deep, with a maximum mesh size of 3 inches (7.6 cm), provided that:

(A) The net is attached to the boat and fished in the upper two-thirds of the water column;

(B) The net is marked with the owner's name and vessel identification number;

(C) No regulated species are retained; and

(D) No other gear capable of catching NE multispecies is on board;

(iii) Fishing in the Midwater Trawl Gear Exempted Fishery as specified in § 648.80(d);

(iv) Fishing in the Purse Seine Gear Exempted Fishery as specified in § 648.80(e);

(v) Fishing under charter/party or recreational regulations specified in § 648.89, provided that:

(A) A vessel fishing under charter/party regulations in a GOM cod protection closure described under paragraph (f)(4) of this section, has on board a letter of authorization issued by the Regional Administrator that is valid from the date of enrollment through the duration of the closure or 3 months duration, whichever is greater;

(B) No harvested or possessed fish species managed by the NEFMC or MAFMC are sold or intended for trade, barter or sale, regardless of where the fish are caught;

(C) Only rod and reel or handline gear is on board; and

(D) No NE multispecies DAS are used during the entire period for which the letter of authorization is valid;

(vi) Fishing with scallop dredge gear under a scallop DAS or when lawfully fishing in the Scallop Dredge Fishery Exemption Area as described in § 648.80(a)(11), provided the vessel does not retain any regulated NE multispecies during a trip, or on any part of a trip;

(vii) Fishing in the Raised Footrope Trawl Exempted Whiting Fishery, as specified in § 648.80(a)(15), or in the Small Mesh Area II Exemption Area, as specified in § 648.80(a)(9);

(viii) Fishing on a sector trip, as defined in this part, and in the GOM Cod Protection Closures IV or V, as specified in paragraphs (f)(4)(iv) and (v) of this section; or

(ix) Fishing under the provisions of a Northeast multispecies Handgear A permit, as specified at § 648.82(b)(6), and in the GOM Cod Protection Closures IV or V, as specified in paragraphs (f)(4)(iv) and (v) of this section.

(x) Transiting the area, provided it complies with the requirements specified in paragraph (e) of this section.

(e) Transiting. (1) Unless otherwise restricted or specified in this paragraph (e), a vessel may transit the Cashes Ledge Closed Area, the Western GOM Closure Area, the GOM Cod Protection Closures, and the GOM Cod Spawning Protection Area, as defined in paragraphs (a)(3), (a)(4), (d)(4), (b)(3), of this section, respectively, provided that its gear is stowed and not available for immediate use as defined in § 648.2.

(2) Private recreational or charter/party vessels fishing under the Northeast multispecies provisions specified at § 648.89 may transit the GOM Cod Spawning Protection Area, as defined in paragraph (b)(3) of this section, provided all bait and hooks are removed from fishing rods, and any regulated species on board have been caught outside the GOM Cod Spawning Protection Area and has been gutted and stored.

(f) Restricted Gear Areas. (1) Restricted Gear Area Seasons. No fishing vessel with mobile gear on board, or person on a fishing vessel with mobile gear on board, may fish or be in the specified Restricted Gear Areas, unless transiting, during the seasons below. No fishing vessel with lobster pot gear on board, or person on a fishing vessel with lobster pot gear on board, may fish in, and no lobster pot gear may be deployed or remain in the specified Restricted Gear Areas. Vessels with lobster pot gear on board may transit during the seasons below.

| Mobile gear | Lobster pot gear
Restricted Gear Area I | October 1-June 15 | June 16-September 30.
Restricted Gear Area II | November 27-June 15 | June 16-November 26.
Restricted Gear Area III | June 16-November 26 | January 1-April 30.
Restricted Gear Area IV | June 16-September 30 | n/a.

(2) Vessels with mobile gear may transit this area, provided that all mobile gear is on board the vessel while inside the area, and is stowed and not available for immediate use as defined in § 648.2.

(3) Restricted Gear Area I. Restricted Gear Area I is defined by straight lines connecting the following points in the order stated:

Point | N. latitude | W. longitude
Inshore Boundary
to 120 |  |
69 | 40°07.9′ | 68°36.0′
70 | 40°07.2′ | 68°38.4′
71 | 40°06.9′ | 68°46.5′
72 | 40°08.7′ | 68°49.6′
73 | 40°08.1′ | 68°51.0′
74 | 40°05.7′ | 68°52.4′
75 | 40°03.6′ | 68°57.2′
76 | 40°03.65′ | 69°00.0′
77 | 40°04.35′ | 69°00.5′
78 | 40°05.2′ | 69°00.5′
79 | 40°05.3′ | 69°01.1′
80 | 40°08.9′ | 69°01.75′
81 | 40°11.0′ | 69°03.8′
82 | 40°11.6′ | 69°05.4′
83 | 40°10.25′ | 69°04.4′
84 | 40°09.75′ | 69°04.15′
85 | 40°08.45′ | 69°03.6′
86 | 40°05.65′ | 69°03.55′
87 | 40°04.1′ | 69°03.9′
88 | 40°02.65′ | 69°05.6′
89 | 40°02.00′ | 69°08.35′
90 | 40°02.65′ | 69°11.15′
91 | 40°00.05′ | 69°14.6′
92 | 39°57.8′ | 69°20.35′
93 | 39°56.65′ | 69°24.4′
94 | 39°56.1′ | 69°26.35′
95 | 39°56.55′ | 69°34.1′
96 | 39°57.85′ | 69°35.5′
97 | 40°00.65′ | 69°36.5′
98 | 40°00.9′ | 69°37.3′
99 | 39°59.15′ | 69°37.3′
100 | 39°58.8′ | 69°38.45′
102 | 39°56.2′ | 69°40.2′
103 | 39°55.75′ | 69°41.4′
104 | 39°56.7′ | 69°53.6′
105 | 39°57.55′ | 69°54.05′
106 | 39°57.4′ | 69°55.9′
107 | 39°56.9′ | 69°57.45′
108 | 39°58.25′ | 70°03.0′
110 | 39°59.2′ | 70°04.9′
111 | 40°00.7′ | 70°08.7′
112 | 40°03.75′ | 70°10.15′
115 | 40°05.2′ | 70°10.9′
116 | 40°02.45′ | 70°14.1′
119 | 40°02.75′ | 70°16.1′
to 181 |  |
Offshore Boundary
to 69 |  |
120 | 40°06.4′ | 68°35.8′
121 | 40°05.25′ | 68°39.3′
122 | 40°05.4′ | 68°44.5′
123 | 40°06.0′ | 68°46.5′
124 | 40°07.4′ | 68°49.6′
125 | 40°05.55′ | 68°49.8′
126 | 40°03.9′ | 68°51.7′
127 | 40°02.25′ | 68°55.4′
128 | 40°02.6′ | 69°00.0′
129 | 40°02.75′ | 69°00.75′
130 | 40°04.2′ | 69°01.75′
131 | 40°06.15′ | 69°01.95′
132 | 40°07.25′ | 69°02.0′
133 | 40°08.5′ | 69°02.25′
134 | 40°09.2′ | 69°02.95′
135 | 40°09.75′ | 69°03.3′
136 | 40°09.55′ | 69°03.85′
137 | 40°08.4′ | 69°03.4′
138 | 40°07.2′ | 69°03.3′
139 | 40°06.0′ | 69°03.1′
140 | 40°05.4′ | 69°03.05′
141 | 40°04.8′ | 69°03.05′
142 | 40°03.55′ | 69°03.55′
143 | 40°01.9′ | 69°03.95′
144 | 40°01.0′ | 69°04.4′
146 | 39°59.9′ | 69°06.25′
147 | 40°00.6′ | 69°10.05′
148 | 39°59.25′ | 69°11.15′
149 | 39°57.45′ | 69°16.05′
150 | 39°56.1′ | 69°20.1′
151 | 39°54.6′ | 69°25.65′
152 | 39°54.65′ | 69°26.9′
153 | 39°54.8′ | 69°30.95′
154 | 39°54.35′ | 69°33.4′
155 | 39°55.0′ | 69°34.9′
156 | 39°56.55′ | 69°36.0′
157 | 39°57.95′ | 69°36.45′
158 | 39°58.75′ | 69°36.3′
159 | 39°58.8′ | 69°36.95′
160 | 39°57.95′ | 69°38.1′
161 | 39°54.5′ | 69°38.25′
162 | 39°53.6′ | 69°46.5′
163 | 39°54.7′ | 69°50.0′
164 | 39°55.25′ | 69°51.4′
165 | 39°55.2′ | 69°53.1′
166 | 39°54.85′ | 69°53.9′
167 | 39°55.7′ | 69°54.9′
168 | 39°56.15′ | 69°55.35′
169 | 39°56.05′ | 69°56.25′
170 | 39°55.3′ | 69°57.1′
171 | 39°54.8′ | 69°58.6′
172 | 39°56.05′ | 70°00.65′
173 | 39°55.3′ | 70°02.95′
174 | 39°56.9′ | 70°11.3′
175 | 39°58.9′ | 70°11.5′
176 | 39°59.6′ | 70°11.1′
177 | 40°01.35′ | 70°11.2′
178 | 40°02.6′ | 70°12.0′
179 | 40°00.4′ | 70°12.3′
180 | 39°59.75′ | 70°13.05′
181 | 39°59.3′ | 70°14.0′
to 119 |  |

(4) Restricted Gear Area II. Restricted Gear Area II is defined by straight lines connecting the following points in the order stated:

Point | N. latitude | W. longitude
Inshore Boundary
to 1
49 | 40°02.75′ N. | 70°16.1′ W.
50 | 40°00.7′ N. | 70°18.6′ W.
51 | 39°59.8′ N. | 70°21.75′ W.
52 | 39°59.75′ N. | 70°25.5′ W.
53 | 40°03.85′ N. | 70°28.75′ W.
54 | 40°00.55′ N. | 70°32.1′ W.
55 | 39°59.15′ N. | 70°34.45′ W.
56 | 39°58.9′ N. | 70°38.65′ W.
57 | 40°00.1′ N. | 70°45.1′ W.
58 | 40°00.5′ N. | 70°57.6′ W.
59 | 40°02.0′ N. | 71°01.3′ W.
60 | 39°59.3′ N. | 71°18.4′ W.
61 | 40°00.7′ N. | 71°19.8′ W.
62 | 39°57.5′ N. | 71°20.6′ W.
63 | 39°53.1′ N. | 71°36.1′ W.
64 | 39°52.6′ N. | 71°40.35′ W.
65 | 39°53.1′ N. | 71°42.7′ W.
66 | 39°46.95′ N. | 71°49.0′ W.
67 | 39°41.15′ N. | 71°57.1′ W.
68 | 39°35.45′ N. | 72°02.0′ W.
69 | 39°32.65′ N. | 72°06.1′ W.
70 | 39°29.75′ N. | 72°09.8′ W.
to 48
Offshore Boundary
to 49
1 | 39°59.3′ N. | 70°14.0′ W.
2 | 39°58.85′ N. | 70°15.2′ W.
3 | 39°59.3′ N. | 70°18.4′ W.
4 | 39°58.1′ N. | 70°19.4′ W.
5 | 39°57.0′ N. | 70°19.85′ W.
6 | 39°57.55′ N. | 70°21.25′ W.
7 | 39°57.5′ N. | 70°22.8′ W.
8 | 39°57.1′ N. | 70°25.4′ W.
9 | 39°57.65′ N. | 70°27.05′ W.
10 | 39°58.58′ N. | 70°27.7′ W.
11 | 40°00.65′ N. | 70°28.8′ W.
12 | 40°02.2′ N. | 70°29.15′ W.
13 | 40°01.0′ N. | 70°30.2′ W.
14 | 39°58.58′ N. | 70°31.85′ W.
15 | 39°57.05′ N. | 70°34.35′ W.
16 | 39°56.42′ N. | 70°36.8′ W.
21 | 39°58.15′ N. | 70°48.0′ W.
24 | 39°58.3′ N. | 70°51.1′ W.
25 | 39°58.1′ N. | 70°52.25′ W.
26 | 39°58.05′ N. | 70°53.55′ W.
27 | 39°58.4′ N. | 70°59.6′ W.
28 | 39°59.8′ N. | 71°01.05′ W.
29 | 39°58.2′ N. | 71°05.85′ W.
30 | 39°57.45′ N. | 71°12.15′ W.
31 | 39°57.2′ N. | 71°15.0′ W.
32 | 39°56.3′ N. | 71°18.95′ W.
33 | 39°51.4′ N. | 71°36.1′ W.
34 | 39°51.75′ N. | 71°41.5′ W.
35 | 39°50.05′ N. | 71°42.5′ W.
36 | 39°50.0′ N. | 71°45.0′ W.
37 | 39°48.95′ N. | 71°46.05′ W.
38 | 39°46.6′ N. | 71°46.1′ W.
39 | 39°43.5′ N. | 71°49.4′ W.
40 | 39°41.3′ N. | 71°55.0′ W.
41 | 39°39.0′ N. | 71°55.6′ W.
42 | 39°36.72′ N. | 71°58.25′ W.
43 | 39°35.15′ N. | 71°58.55′ W.
44 | 39°34.5′ N. | 72°00.75′ W.
45 | 39°32.2′ N. | 72°02.25′ W.
46 | 39°32.15′ N. | 72°04.1′ W.
47 | 39°28.5′ N. | 72°06.5′ W.
48 | 39°29.0′ N. | 72°09.25′ W.
to 70

(5) Restricted Gear Area III. Restricted Gear Area III is defined by straight lines connecting the following points in the order stated:

Point | N. latitude | W. longitude
Inshore Boundary
to 49
182 | 40°05.6′ N. | 70°17.7′ W.
183 | 40°06.5′ N. | 70°40.05′ W.
184 | 40°11.05′ N. | 70°45.8′ W.
185 | 40°12.75′ N. | 70°55.05′ W.
186 | 40°10.7′ N. | 71°10.25′ W.
187 | 39°57.9′ N. | 71°28.7′ W.
188 | 39°55.6′ N. | 71°41.2′ W.
189 | 39°55.85′ N. | 71°45.0′ W.
190 | 39°53.75′ N. | 71°52.25′ W.
191 | 39°47.2′ N. | 72°01.6′ W.
192 | 39°33.65′ N. | 72°15.0′ W.
to 70
Offshore Boundary
to 182
49 | 40°02.75′ N. | 70°16.1′ W.
50 | 40°00.7′ N. | 70°18.6′ W.
51 | 39°59.8′ N. | 70°21.75′ W.
52 | 39°59.75′ N. | 70°25.5′ W.
53 | 40°03.85′ N. | 70°28.75′ W.
54 | 40°00.55′ N. | 70°32.1′ W.
55 | 39°59.15′ N. | 70°34.45′ W.
56 | 39°58.9′ N. | 70°38.65′ W.
57 | 40°00.1′ N. | 70°45.1′ W.
58 | 40°00.5′ N. | 70°57.6′ W.
59 | 40°02.0′ N. | 71°01.3′ W.
60 | 39°59.3′ N. | 71°18.4′ W.
61 | 40°00.7′ N. | 71°19.8′ W.
62 | 39°57.5′ N. | 71°20.6′ W.
63 | 39°53.1′ N. | 71°36.1′ W.
64 | 39°52.6′ N. | 71°40.35′ W.
65 | 39°53.1′ N. | 71°42.7′ W.
66 | 39°46.95′ N. | 71°49.0′ W.
67 | 39°41.15′ N. | 71°57.1′ W.
68 | 39°35.45′ N. | 72°02.0′ W.
69 | 39°32.65′ N. | 72°06.1′ W.
70 | 39°29.75′ N. | 72°09.8′ W.
to 192

(6) Restricted Gear Area IV. Restricted Gear Area IV is defined by straight lines connecting the following points in the order stated:

Point | N. latitude | W. longitude
Inshore Boundary
193 | 40°13.60′ N. | 68°40.60′ W.
194 | 40°11.60′ N. | 68°53.00′ W.
195 | 40°14.00′ N. | 69°04.70′ W.
196 | 40°14.30′ N. | 69°05.80′ W.
197 | 40°05.50′ N. | 69°09.00′ W.
198 | 39°57.30′ N. | 69°25.10′ W.
199 | 40°00.40′ N. | 69°35.20′ W.
200 | 40°01.70′ N. | 69°35.40′ W.
201 | 40°01.70′ N. | 69°37.40′ W.
202 | 40°00.50′ N. | 69°38.80′ W.
203 | 40°01.30′ N. | 69°45.00′ W.
204 | 40°02.10′ N. | 69°45.00′ W.
205 | 40°07.60′ N. | 70°04.50′ W.
206 | 40°07.80′ N. | 70°09.20′ W.
to 119
Offshore Boundary
69 | 40°07.90′ N. | 68°36.00′ W.
70 | 40°07.20′ N. | 68°38.40′ W.
71 | 40°06.90′ N. | 68°46.50′ W.
72 | 40°08.70′ N. | 68°49.60′ W.
73 | 40°08.10′ N. | 68°51.00′ W.
74 | 40°05.70′ N. | 68°52.40′ W.
75 | 40°03.60′ N. | 68°57.20′ W.
76 | 40°03.65′ N. | 69°00.00′ W.
77 | 40°04.35′ N. | 69°00.50′ W.
78 | 40°05.20′ N. | 69°00.50′ W.
79 | 40°05.30′ N. | 69°01.10′ W.
80 | 40°08.90′ N. | 69°01.75′ W.
81 | 40°11.00′ N. | 69°03.80′ W.
82 | 40°11.60′ N. | 69°05.40′ W.
83 | 40°10.25′ N. | 69°04.40′ W.
84 | 40°09.75′ N. | 69°04.15′ W.
85 | 40°08.45′ N. | 69°03.60′ W.
86 | 40°05.65′ N. | 69°03.55′ W.
87 | 40°04.10′ N. | 69°03.90′ W.
88 | 40°02.65′ N. | 69°05.60′ W.
89 | 40°02.00′ N. | 69°08.35′ W.
90 | 40°02.65′ N. | 69°11.15′ W.
91 | 40°00.05′ N. | 69°14.60′ W.
92 | 39°57.8′ N. | 69°20.35′ W.
93 | 39°56.75′ N. | 69°24.40′ W.
94 | 39°56.50′ N. | 69°26.35′ W.
95 | 39°56.80′ N. | 69°34.10′ W.
96 | 39°57.85′ N. | 69°35.05′ W.
97 | 40°00.65′ N. | 69°36.50′ W.
98 | 40°00.90′ N. | 69°37.30′ W.
99 | 39°59.15′ N. | 69°37.30′ W.
100 | 39°58.80′ N. | 69°38.45′ W.
102 | 39°56.20′ N. | 69°40.20′ W.
103 | 39°55.75′ N. | 69°41.40′ W.
104 | 39°56.70′ N. | 69°53.60′ W.
105 | 39°57.55′ N. | 69°54.05′ W.
106 | 39°57.40′ N. | 69°55.90′ W.
107 | 39°56.90′ N. | 69°57.45′ W.
108 | 39°58.25′ N. | 70°03.00′ W.
110 | 39°59.20′ N. | 70°04.90′ W.
111 | 40°00.70′ N. | 70°08.70′ W.
112 | 40°03.75′ N. | 70°10.15′ W.
115 | 40°05.20′ N. | 70°10.90′ W.
116 | 40°02.45′ N. | 70°14.1′ W.
119 | 40°02.75′ N. | 70°16.1′ W.
to 206

* * * * *

§ 648.87 [Amended]

12. Amend § 648.87 by revising paragraphs paragraphs (c)(2)(i) and (c)(2)(ii)(B).

* * * * *

(c) * * *

(2) * * *

(i) Regulations that may not be exempted for sector participants. The Regional Administrator may not exempt participants in a sector from the following Federal fishing regulations: Specific times and areas within the NE multispecies year-round closure areas; permitting restrictions (e.g., vessel upgrades, etc.); gear restrictions designed to minimize habitat impacts (e.g., roller gear restrictions, etc.); reporting requirements; and AMs specified in § 648.90(a)(5)(i)(D). For the purposes of this paragraph (c)(2)(i), the DAS reporting requirements specified in § 648.82, the SAP-specific reporting requirements specified in § 648.85, VMS requirements for Handgear A category permitted vessels as specified in § 648.10, and the reporting requirements associated with a dockside monitoring program are not considered reporting requirements, and the Regional Administrator may exempt sector participants from these requirements as part of the approval of yearly operations plans. For the purpose of this paragraph (c)(2)(i), the Regional Administrator may not grant sector participants exemptions from the NE multispecies year-round closures areas defined as Habitat Management Areas as defined in § 648.370; Closed Area I North and Closed Area II, as defined in § 648.81(c)(3) and (c)(4), respectively, during the period February 16 through April 30; and the Western GOM Closure Area, as defined at § 648.81(a)(4), where it overlaps with GOM Cod Protection Closures I through III, as defined in § 648.81(d)(4). This list may be modified through a framework adjustment, as specified in § 648.90.

(ii) * * *

(B) The GOM Cod Protection Closures IV and V specified in § 648.81(d)(4)(iv) and (v).

§ 648.89 [Amended]

13. In § 648.89, revise paragraphs (e)(1)(i) and (ii) and remove and reserve paragraph (e)(2) to read as follows:

* * * * *

(e) Charter/party vessel restrictions on fishing in GOM closed areas.

(1) GOM Closed Areas.

(i) A vessel fishing under charter/party regulations may not fish in the GOM closed areas specified in § 648.81(a)(3), (a)(4), and (d)(4) during the time periods specified in those paragraphs, unless the vessel has on board a valid letter of authorization issued by the Regional Administrator pursuant to § 648.81(d)(5)(v) and paragraph (e)(3) of this section. The conditions and restrictions of the letter of authorization must be complied with for a minimum of 3 months if the vessel fishes or intends to fish in the GOM cod protection closures; or for the rest of the fishing year, beginning with the start of the participation period of the letter of authorization, if the vessel fishes or intends to fish in the year-round GOM closure areas.

(ii) A vessel fishing under charter/party regulations may not fish in the GOM Cod Spawning Protection Area specified at § 648.81(b)(3) during the time period specified in that paragraph, unless the vessel complies with the requirements specified at § 648.81(b)(2)(iii).

(2) Reserved.

§ 648.202 [Amended]

14. Amend § 648.202 by revising paragraph (b)(1) to read as follows:

* * * * *

(b) Fishing in Northeast Multispecies Closed Areas.

(1) No vessel issued an Atlantic herring permit and fishing with midwater trawl gear, may fish for, possess or land fish in or from the Closed Areas, including the Cashes Ledge Closure Area and the Western GOM Closure Area, as defined in § 648.81(a)(3) and (a)(4), respectively, unless it has declared first its intent to fish in the Closed Areas as required by § 648.11(m)(1), and is carrying onboard a NMFS-approved observer.

* * * * *

§ 648.203 [Amended]

15. Amend § 648.203 by revising paragraph (a) to read as follows:

(a) Midwater trawl gear may only be used by a vessel issued a valid herring permit in the GOM/GB Exemption Area as defined in § 648.80(a)(17), provided it complies with the midwater trawl gear exemption requirements specified under the NE multispecies regulations at § 648.80(d), including issuance of a Letter of Authorization.

* * * * *

16. Add Subpart Q consisting of §§ 648.370 through 648.372 to read as follows:

Subpart Q—Habitat-Related Management Measures
648.370 Habitat Management Areas.
648.371 Dedicated Habitat Research Areas.
648.372 Frank R. Lautenberg Deep-Sea Coral Protection Areas.

Subpart Q—Habitat-Related Management Measures

§ 648.370 Habitat management areas.

Unless otherwise specified, no fishing vessel or person on a fishing vessel may fish with bottom-tending mobile gear in the areas defined in this section. Copies of charts depicting these areas are available from the Regional Administrator upon request.

(a) Eastern Maine Habitat Management Area. The Eastern Maine HMA is defined by straight lines connecting the following points in the order stated:

Eastern Maine HMA
Point | N. latitude | W. longitude
1 | 44°02.5′ | 68°06.1′
2 | 43°51.0′ | 68°33.9′
3 * | 43°56.6′ | 68°38.1′
4 * | 44°07.6′ | 68°10.6′
* Landward boundary at state waters. Only endpoints provided.

(b) Jeffreys Bank Habitat Management Area. The Jeffreys Bank HMA is defined by straight lines connecting the following points in the order stated:

Jeffreys Bank HMA
Point | N. latitude | W. longitude
1 | 43°31′ | 68°37′
2 | 43°20′ | 68°37′
3 | 43°20′ | 68°55′
4 | 43°31′ | 68°55′

(c) Cashes Ledge Habitat Management Area. The Cashes Ledge HMA is defined by straight lines connecting the following points in the order stated:

Cashes Ledge HMA
Point | N. latitude | W. longitude
1 | 43°01.0′ | 69°00.0′
2 | 43°01.0′ | 68°52.0′
3 | 42°45.0′ | 68°52.0′
4 | 42°45.0′ | 69°00.0′

(d) Fippennies Ledge Habitat Management Area. The Fippennies Ledge HMA is defined by straight lines connecting the following points in the order stated:

Fippennies Ledge HMA
Point | N. latitude | W. longitude
1 | 42°50.0′ | 69°17.0′
2 | 42°44.0′ | 69°14.0′
3 | 42°44.0′ | 69°18.0′
4 | 42°50.0′ | 69°21.0′

(e) Ammen Rock Habitat Management Area. (1) The Ammen Rock HMA is defined by straight lines connecting the following points in the order stated:

Ammen Rock HMA
Point | N. latitude | W. longitude
1 | 42°55.5′ | 68°57.0′
2 | 42°52.5′ | 68°55.0′
3 | 42°52.5′ | 68°57.0′
4 | 42°55.5′ | 68°59.0′

(2) No fishing vessel, including private and for-hire recreational fishing vessels, may fish in the Ammen Rock HMA, except for vessels fishing exclusively with lobster traps, as defined in § 697.2.

(f) Western Gulf of Maine Habitat Management Area. (1) The Western GOM HMA is defined by the straight lines connecting the following points in the order stated:

Western Gulf of Maine HMA
Point | N. latitude | W. longitude
WGM4 | 43°15′ | 70°15′
WGM1 | 42°15′ | 70°15′
WGM5 | 42°15′ | 70°00′
WGM6 | 43°15′ | 70°15′

(2) Western Gulf of Maine Shrimp Exemption Area. Vessels fishing with shrimp trawls under the Small Mesh Northern Shrimp Fishery Exemption specified at § 648.80(a)(5) may fish within the Western Gulf of Maine HMA Shrimp Exemption Area which is defined by the straight lines connecting the following points in the order stated:

Western Gulf of Maine Shrimp Exemption Area
Point | N. latitude | W. longitude
1 | 43°15′ | 70°
2 | 43°13′ | 70°
3 | 43°13′ | 70°05′
4 | 43°09′ | 70°05′
5 | 43°09′ | 70°08′
6 | 42°55′ | 70°08′
7 | 42°55′ | 70°15′
8 | 43°15′ | 70°15′

(h) Georges Shoal Habitat Management Area. (1) The Georges Shoal HMA is defined by the straight lines connecting the following points in the order stated:

Georges Shoal HMA
Point | N. latitude | W. longitude
1 | 41°46′ | 67°46′
2 | 41°39′ | 67°40′
3 | 41°30′ | 67°40′
4 | 41°30′ | 68°10′
5 | 41°41′ | 68°10′

(2) Hydraulic Clam Dredge Exemption. Surfclam and ocean quahog permitted vessels may fish with hydraulic clam dredges in the Georges Shoal HMA until [Insert date 1 year from the effective date of the final rule.].

(i) Northern Edge Habitat Management Area. The Northern Edge HMA is defined by the straight lines connecting the following points in the order stated:

Northern Edge HMA
Point | N. latitude | W. longitude
1 | 42°02′00″ | 67°02′14.205″
2 | 41°50′00″ | 66°52′01.383″
3 | 41°50′00″ | 67°20′00″
4 | 42°02′00″ | 67°20′00″

(j) Northern Edge Reduced Impact Habitat Management Area. (1) The Northern Edge Reduced Impact HMA is defined by the straight lines connecting the following points in the order stated:

Northern Edge Reduced Impact HMA
Point | N. latitude | W. longitude
1 | 42°10′00″ | 67°09′18″
2 | 42°02′00″ | 67°02′14.205″
3 | 42°02′00″ | 67°20′00″
4 | 42°00′00″ | 67°20′00″
5 | 42°00′00″ | 67°26′00″
6 | 42°05′30″ | 67°26′00″

(2) Scallop Dredge Exemption. Atlantic sea scallop permitted vessels may fish with scallop dredges in the Northern Edge Reduced Impact HMA as authorized under the sea scallop area rotation program as described in § 648.59.

(3) Eastern US/CA Haddock Special Access Program (SAP) Exemption. Vessels fishing under the Eastern US/CA Haddock special access program, as defined in § 648.85(b)(8), may use bottom trawls in the Northern Edge Reduced Impact HMA west of 67°20′ W.

(k) Great South Channel Habitat Management Area. (1) The Great South Channel HMA is defined by the straight lines connecting the following points in the order stated:

Great South Channel HMA
Point | N. latitude | W. longitude
1 | 41°30.3′ | 69°31.0′
2 | 41°0.00′ | 69°18.5′
3 | 40°51.7′ | 69°18.5′
4 | 40°51.6′ | 69°48.9′
5 | 41°30.2′ | 69°49.3′

(2) Hydraulic Clam Dredge Exemption. (i) Except for the portion of the Great South Channel HMA defined in paragraph (iii) of this section, surfclam and ocean quahog permitted vessels may fish with hydraulic clam dredges in the Great South Channel HMA.

(ii) The Hydraulic clam dredge exemption is effective until [Insert date 1 year from effective date]. After which, no vessels fishing with hydraulic clam dredges may fish within the Great South Channel HMA.

(iii) The hydraulic clam dredge exemption does not apply in the area defined as the straight lines connecting the following points in the order stated:

Point | N. latitude | W. longitude
GSC 1 | 41°30.3′ | 69°31.0′
MBTG 2 | 41°21.0′ | 69°27.2′
MBTG 3 | 41°21.0′ | 69°43.0′
MBTG 4 | 41°30.0′ | 69°43.0′

(l) Cox Ledge Habitat Management Areas. (1) Cox Ledge 1 Habitat Management Area. The Cox Ledge 1 HMA is defined by the straight lines connecting the following points in the order stated:

Cox Ledge HMA 1
Point | N. latitude | W. longitude
1 | 41°05.0′ | 71°03.0′
2 | 41°00.0′ | 71°03.0′
3 | 41°00.0′ | 71°14.0′
4 | 41°05.0′ | 71°14.0′

(2) Cox Ledge 2 Habitat Management Area. The Cox Ledge 2 HMA is defined by the straight lines connecting the following points in the order stated:

Cox Ledge HMA 2
Point | N. latitude | W. longitude
1 | 41°12.0′ | 70°55.0′
2 | 41°07.5′ | 70°55.0′
3 | 40°07.5′ | 71°01.0′
4 | 41°12.0′ | 71°01.0′

(3) Gear restrictions. (i) No vessel may fish in the Cox Ledge HMAs with a hydraulic clam dredge.

(ii) Vessels may fish in the Cox Ledge HMAs with bottom trawls, provided the gear is configured such that there are no ground cables and the bridle length is less than or equal to 30 fathoms per side.

(m) Transiting. Unless otherwise restricted or specified in this paragraph (m), a vessel may transit the habitat management areas described in this section provided that its gear is stowed and not available for immediate use as defined in § 648.2.

(n) Other Habitat Protection Measures. (1) The Inshore Gulf of Maine/Georges Bank Restricted Roller Gear Area described in § 648.80 (a)(3)(vii) is considered a habitat protection measure and the restrictions outlined in that section apply to all bottom trawl gear.

(o) Review of Habitat Management Measures. The New England Fishery Management Council will develop a strategic process to evaluate the boundaries, scope, characteristics, and timing of habitat and spawning protection areas to facilitate review of these areas at 10-year intervals.

§ 648.371 Dedicated Habitat Research Areas.

(a) Dedicated Habitat Research Area Topics. The areas defined in this section are intended to facilitate coordinated research on gear impacts, habitat recovery, natural disturbance, and productivity.

(b) Stellwagen Dedicated Habitat Research Area. (1) The Stellwagen DHRA is defined by the straight lines connecting the following points in the order stated:

Stellwagen DHRA
Point | N. latitude | W. longitude
1 | 42°15.0′ | 70°00.0′
2 | 42°15.0′ | 70°15.0′
3 | 42°45.2′ | 70°15.0′
4 | 42°46.0′ | 70°13.0′
5 | 42°46.0′ | 70°00.0′

(2) Vessels fishing with bottom-tending mobile gear, sink gillnet gear, or demersal longline gear are prohibited from fishing in the Stellwagen DHRA, unless otherwise exempted.

(c) Georges Bank Dedicated Habitat Research Area. (1) The Georges Bank DHRA is defined by straight lines connecting the following points in the order stated:

Georges Bank DHRA
Point | N. latitude | W. longitude
CIH3 | 40°55′ | 68°53′
CIH4 | 40°58′ | 68°30′
CI3 | 40°45′ | 68°30′
CI2 | 40°45′ | 68°45′

(2) Vessels fishing with bottom-tending mobile gear are prohibited from fishing in the Georges Bank DHRA, unless otherwise exempted.

(d) Transiting. Unless otherwise restricted or specified in this paragraph (d), a vessel may transit the Dedicated Habitat Research Areas of this section provided that its gear is stowed and not available for immediate use as defined in § 648.2.

(e) Dedicated Habitat Research Areas Review. (1) The Regional Administrator shall initiate a review of the DHRAs defined in this section three years after implementation.

(2) After initiation of the review and consultation with the New England Fishery Management Council, the Regional Administrator may remove a DHRA. The following criteria will be used to determine if DHRA should be maintained:

(i) Documentation of active and ongoing research in the DHRA area, in the form of data records, cruise reports or inventory samples with analytical objectives focused on the DHRA topics, described in paragraph (a) of this section; and

(ii) Documentation of pending or approved proposals or funding requests (including ship time requests), with objectives specific to the DHRA topics, described in paragraph (a) of this section.

(3) The Regional Administrator will make any such determination in accordance with the APA through notification in the Federal Register.

§ 648.372 Frank R. Lautenberg Deep-Sea Coral Protection Area

(a) No vessel may fish with bottom-tending gear within the Frank R. Lautenberg Deep-Sea Coral Protection Area described in this section, unless transiting pursuant to paragraph (d) of this section, fishing lobster trap gear in accordance with § 697.21 of this chapter, or fishing red crab trap gear in accordance with § 648.264. Bottom-tending gear includes but is not limited to bottom-tending otter trawls, bottom-tending beam trawls, hydraulic dredges, non-hydraulic dredges, bottom-tending seines, bottom longlines, pots and traps, and sink or anchored gillnets. The Frank R. Lautenberg Deep-Sea Coral Protection Area consists of the Broad and Discrete Deep-Sea Coral Zones defined in paragraphs (b) and (c) of this section.

(b) Broad Deep-Sea Coral Zone. The Broad Deep-Sea Coral Zone is bounded on the east by the outer limit of the U.S. Exclusive Economic Zone, and bounded on all other sides by straight lines connecting the following points in the order stated (copies of a chart depicting this area are available from the Regional Administrator upon request). An asterisk (*) in the Discrete Zone column means the point is shared with a Discrete Deep-Sea Coral Zone, as defined in paragraph (c) of this section.

Broad Zone
Point | Latitude | Longitude | Discrete zone
1 | 36°33.02′ N. | 71°29.33′ W.
2 | 36°33.02′ N. | 72°00′ W.
3 | 36°33.02′ N. | 73°00′ W.
4 | 36°33.02′ N. | 74°00′ W.
5 | 36°33.02′ N. | 74°42.14′ W.
6 | 36°34.44′ N. | 74°42.23′ W.
7 | 36°35.53′ N. | 74°41.59′ W.
8 | 36°37.69′ N. | 74°41.51′ W.
9 | 36°42.09′ N. | 74°39.07′ W.
10 | 36°45.18′ N. | 74°38′ W.
11 | 36°45.69′ N. | 74°38.55′ W.
12 | 36°49.17′ N. | 74°38.31′ W.
13 | 36°49.56′ N. | 74°37.77′ W.
14 | 36°51.21′ N. | 74°37.81′ W.
15 | 36°51.78′ N. | 74°37.43′ W.
16 | 36°58.51′ N. | 74°36.51′ W. | (*)
17 | 36°58.62′ N. | 74°36.97′ W. | (*)
18 | 37°4.43′ N. | 74°41.03′ W. | (*)
19 | 37°5.83′ N. | 74°45.57′ W. | (*)
20 | 37°6.97′ N. | 74°40.8′ W. | (*)
21 | 37°4.52′ N. | 74°37.77′ W. | (*)
22 | 37°4.02′ N. | 74°33.83′ W. | (*)
23 | 37°4.52′ N. | 74°33.51′ W. | (*)
24 | 37°4.4′ N. | 74°33.11′ W. | (*)
25 | 37°7.38′ N. | 74°31.95′ W.
26 | 37°8.32′ N. | 74°32.4′ W.
27 | 37°8.51′ N. | 74°31.38′ W.
28 | 37°9.44′ N. | 74°31.5′ W.
29 | 37°16.83′ N. | 74°28.58′ W.
30 | 37°17.81′ N. | 74°27.67′ W.
31 | 37°18.72′ N. | 74°28.22′ W.
32 | 37°22.74′ N. | 74°26.24′ W. | (*)
33 | 37°22.87′ N. | 74°26.16′ W. | (*)
34 | 37°24.44′ N. | 74°28.57′ W. | (*)
35 | 37°24.67′ N. | 74°29.71′ W. | (*)
36 | 37°25.93′ N. | 74°30.13′ W. | (*)
37 | 37°27.25′ N. | 74°30.2′ W. | (*)
38 | 37°28.6′ N. | 74°30.6′ W. | (*)
39 | 37°29.43′ N. | 74°30.29′ W. | (*)
40 | 37°29.53′ N. | 74°29.95′ W. | (*)
41 | 37°27.68′ N. | 74°28.82′ W. | (*)
42 | 37°27.06′ N. | 74°28.76′ W. | (*)
43 | 37°26.39′ N. | 74°27.76′ W. | (*)
44 | 37°26.3′ N. | 74°26.87′ W. | (*)
45 | 37°25.69′ N. | 74°25.63′ W. | (*)
46 | 37°25.83′ N. | 74°24.22′ W. | (*)
47 | 37°25.68′ N. | 74°24.03′ W. | (*)
48 | 37°28.04′ N. | 74°23.17′ W.
49 | 37°27.72′ N. | 74°22.34′ W.
50 | 37°30.13′ N. | 74°17.77′ W.
51 | 37°33.83′ N. | 74°17.47′ W.
52 | 37°35.48′ N. | 74°14.84′ W.
53 | 37°36.99′ N. | 74°14.01′ W.
54 | 37°37.23′ N. | 74°13.02′ W.
55 | 37°42.85′ N. | 74°9.97′ W.
56 | 37°43.5′ N. | 74°8.79′ W.
57 | 37°45.22′ N. | 74°9.2′ W. | (*)
58 | 37°45.15′ N. | 74°7.24′ W. | (*)
59 | 37°45.88′ N. | 74°7.44′ W. | (*)
60 | 37°46.7′ N. | 74°5.98′ W. | (*)
61 | 37°49.62′ N. | 74°6.03′ W. | (*)
62 | 37°51.25′ N. | 74°5.48′ W. | (*)
63 | 37°51.99′ N. | 74°4.51′ W. | (*)
64 | 37°51.37′ N. | 74°3.3′ W. | (*)
65 | 37°50.63′ N. | 74°2.69′ W. | (*)
66 | 37°49.62′ N. | 74°2.28′ W. | (*)
67 | 37°50.28′ N. | 74°0.67′ W. | (*)
68 | 37°53.68′ N. | 73°57.41′ W. | (*)
69 | 37°55.07′ N. | 73°57.27′ W. | (*)
70 | 38°3.29′ N. | 73°49.1′ W. | (*)
71 | 38°6.19′ N. | 73°51.59′ W. | (*)
72 | 38°7.67′ N. | 73°52.19′ W. | (*)
73 | 38°9.04′ N. | 73°52.39′ W. | (*)
74 | 38°10.1′ N. | 73°52.32′ W. | (*)
75 | 38°11.98′ N. | 73°52.65′ W. | (*)
76 | 38°13.74′ N. | 73°50.73′ W. | (*)
77 | 38°13.15′ N. | 73°49.77′ W. | (*)
78 | 38°10.92′ N. | 73°50.37′ W. | (*)
79 | 38°10.2′ N. | 73°49.63′ W. | (*)
80 | 38°9.26′ N. | 73°49.68′ W. | (*)
81 | 38°8.38′ N. | 73°49.51′ W. | (*)
82 | 38°7.59′ N. | 73°47.91′ W. | (*)
83 | 38°6.96′ N. | 73°47.25′ W. | (*)
84 | 38°6.51′ N. | 73°46.99′ W. | (*)
85 | 38°5.69′ N. | 73°45.56′ W. | (*)
86 | 38°6.35′ N. | 73°44.8′ W. | (*)
87 | 38°7.5′ N. | 73°45.2′ W. | (*)
88 | 38°9.24′ N. | 73°42.61′ W. | (*)
89 | 38°9.41′ N. | 73°41.63′ W.
90 | 38°15.13′ N. | 73°37.58′ W.
91 | 38°15.25′ N. | 73°36.2′ W. | (*)
92 | 38°16.19′ N. | 73°36.91′ W. | (*)
93 | 38°16.89′ N. | 73°36.66′ W. | (*)
94 | 38°16.91′ N. | 73°36.35′ W. | (*)
95 | 38°17.63′ N. | 73°35.35′ W. | (*)
96 | 38°18.55′ N. | 73°34.44′ W. | (*)
97 | 38°18.38′ N. | 73°33.4′ W. | (*)
98 | 38°19.04′ N. | 73°33.02′ W. | (*)
99 | 38°25.08′ N. | 73°34.99′ W. | (*)
100 | 38°26.32′ N. | 73°33.44′ W. | (*)
101 | 38°29.72′ N. | 73°30.65′ W. | (*)
102 | 38°28.65′ N. | 73°29.37′ W. | (*)
103 | 38°25.53′ N. | 73°30.94′ W. | (*)
104 | 38°25.26′ N. | 73°29.97′ W. | (*)
105 | 38°23.75′ N. | 73°30.16′ W. | (*)
106 | 38°23.47′ N. | 73°29.7′ W. | (*)
107 | 38°22.76′ N. | 73°29.34′ W. | (*)
108 | 38°22.5′ N. | 73°27.63′ W. | (*)
109 | 38°21.59′ N. | 73°26.87′ W. | (*)
110 | 38°23.07′ N. | 73°24.11′ W.
111 | 38°25.83′ N. | 73°22.39′ W.
112 | 38°25.97′ N. | 73°21.43′ W.
113 | 38°34.14′ N. | 73°11.14′ W. | (*)
114 | 38°35.1′ N. | 73°10.43′ W. | (*)
115 | 38°35.94′ N. | 73°11.25′ W. | (*)
116 | 38°37.57′ N. | 73°10.49′ W. | (*)
117 | 38°37.21′ N. | 73°9.41′ W. | (*)
118 | 38°36.72′ N. | 73°8.85′ W. | (*)
119 | 38°43′ N. | 73°1.24′ W. | (*)
120 | 38°43.66′ N. | 73°0.36′ W. | (*)
121 | 38°45′ N. | 73°0.27′ W. | (*)
122 | 38°46.68′ N. | 73°1.07′ W. | (*)
123 | 38°47.54′ N. | 73°2.24′ W. | (*)
124 | 38°47.84′ N. | 73°2.24′ W. | (*)
125 | 38°49.03′ N. | 73°1.53′ W. | (*)
126 | 38°48.45′ N. | 73°1′ W. | (*)
127 | 38°49.15′ N. | 72°58.98′ W. | (*)
128 | 38°48.03′ N. | 72°56.7′ W. | (*)
129 | 38°49.84′ N. | 72°55.54′ W. | (*)
130 | 38°52.4′ N. | 72°52.5′ W. | (*)
131 | 38°53.87′ N. | 72°53.36′ W. | (*)
132 | 38°54.17′ N. | 72°52.58′ W. | (*)
133 | 38°54.7′ N. | 72°50.26′ W. | (*)
134 | 38°57.2′ N. | 72°47.74′ W. | (*)
135 | 38°58.64′ N. | 72°48.35′ W. | (*)
136 | 38°59.3′ N. | 72°47.86′ W. | (*)
137 | 38°59.22′ N. | 72°46.69′ W. | (*)
138 | 39°0.13′ N. | 72°45.47′ W. | (*)
139 | 39°1.69′ N. | 72°45.74′ W. | (*)
140 | 39°1.49′ N. | 72°43.67′ W. | (*)
141 | 39°3.9′ N. | 72°40.83′ W. | (*)
142 | 39°7.35′ N. | 72°41.26′ W. | (*)
143 | 39°7.16′ N. | 72°37.21′ W. | (*)
144 | 39°6.52′ N. | 72°35.78′ W. | (*)
145 | 39°11.73′ N. | 72°25.4′ W. | (*)
146 | 39°11.76′ N. | 72°22.33′ W.
147 | 39°19.08′ N. | 72°9.56′ W. | (*)
148 | 39°25.17′ N. | 72°13.03′ W. | (*)
149 | 39°28.8′ N. | 72°17.39′ W. | (*)
150 | 39°30.16′ N. | 72°20.41′ W. | (*)
151 | 39°31.38′ N. | 72°23.86′ W. | (*)
152 | 39°32.55′ N. | 72°25.07′ W. | (*)
153 | 39°34.57′ N. | 72°25.18′ W. | (*)
154 | 39°34.53′ N. | 72°24.23′ W. | (*)
155 | 39°33.17′ N. | 72°24.1′ W. | (*)
156 | 39°32.07′ N. | 72°22.77′ W. | (*)
157 | 39°32.17′ N. | 72°22.08′ W. | (*)
158 | 39°30.3′ N. | 72°15.71′ W. | (*)
159 | 39°29.49′ N. | 72°14.3′ W. | (*)
160 | 39°29.44′ N. | 72°13.24′ W. | (*)
161 | 39°27.63′ N. | 72°5.87′ W. | (*)
162 | 39°28.26′ N. | 72°2.2′ W. | (*)
163 | 39°29.88′ N. | 72°3.51′ W. | (*)
164 | 39°30.57′ N. | 72°3.47′ W. | (*)
165 | 39°31.28′ N. | 72°2.63′ W. | (*)
166 | 39°31.46′ N. | 72°1.41′ W. | (*)
167 | 39°37.15′ N. | 71°55.85′ W. | (*)
168 | 39°39.77′ N. | 71°53.7′ W. | (*)
169 | 39°41.5′ N. | 71°51.89′ W.
170 | 39°43.84′ N. | 71°44.85′ W. | (*)
171 | 39°48.01′ N. | 71°45.19′ W. | (*)
172 | 39°49.97′ N. | 71°39.29′ W. | (*)
173 | 39°55.08′ N. | 71°18.62′ W. | (*)
174 | 39°55.99′ N. | 71°16.07′ W. | (*)
175 | 39°57.04′ N. | 70°50.01′ W.
176 | 39°55.07′ N. | 70°32.42′ W.
177 | 39°50.24′ N. | 70°27.78′ W.
178 | 39°42.18′ N. | 70°20.09′ W.
179 | 39°34.11′ N. | 70°12.42′ W.
180 | 39°26.04′ N. | 70°4.78′ W.
181 | 39°17.96′ N. | 69°57.18′ W.
182 | 39°9.87′ N. | 69°49.6′ W.
183 | 39°1.77′ N. | 69°42.05′ W.
184 | 38°53.66′ N. | 69°34.53′ W.
185 | 38°45.54′ N. | 69°27.03′ W.
186 | 38°37.42′ N. | 69°19.57′ W.
187 | 38°29.29′ N. | 69°12.13′ W.
188 | 38°21.15′ N. | 69°4.73′ W.
189 | 38°13′ N. | 68°57.35′ W.
190 | 38°4.84′ N. | 68°49.99′ W.
191 | 38°2.21′ N. | 68°47.62′ W.

(c) Discrete Deep-Sea Coral Zones. (1) Block Canyon. Block Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Block Canyon
Point | Latitude | Longitude | Broad zone
1 | 39°55.08′ N. | 71°18.62′ W. | (*)
(2) | 39°55.99′ N. | 71°16.07′ W. | (*)
3 | 39°49.51′ N. | 71°12.12′ W.
4 | 39°38.09′ N. | 71°9.5′ W.
5 | 39°37.4′ N. | 71°11.87′ W.
6 | 39°47.26′ N. | 71°17.38′ W.
7 | 39°52.6′ N. | 71°17.51′ W.
1 | 39°55.08′ N. | 71°18.62′ W. | (*)

(2) Ryan and McMaster Canyons. Ryan and McMaster Canyons discrete deep-sea coral zone is defined by straight lines connecting the following points in the order stated (copies of a chart depicting this area are available from the Regional Administrator upon request). An asterisk (*) in the Broad Zone column means the point is shared with the Broad Deep-sea Coral Zone, as defined in paragraph (b) of this section.

Ryan and McMaster Canyons
Point | Latitude | Longitude | Broad zone
1 | 39°43.84′ N. | 71°44.85′ W. | (*)
2 | 39°48.01′ N. | 71°45.19′ W. | (*)
3 | 39°49.97′ N. | 71°39.29′ W. | (*)
4 | 39°48.29′ N. | 71°37.18′ W.
5 | 39°42.96′ N. | 71°35.01′ W.
6 | 39°33.43′ N. | 71°27.91′ W.
7 | 39°31.75′ N. | 71°30.77′ W.
8 | 39°34.46′ N. | 71°35.68′ W.
9 | 39°40.12′ N. | 71°42.36′ W.
1 | 39°43.84′ N. | 71°44.85′ W. | (*)

(3) Emery and Uchupi Canyons. Emery and Uchupi Canyons discrete deep-sea coral zone is defined by straight lines connecting the following points in the order stated (copies of a chart depicting this area are available from the Regional Administrator upon request). An asterisk (*) in the Broad Zone column means the point is shared with the Broad Deep-sea Coral Zone, as defined in paragraph (b) of this section.

Emery and Uchupi Canyons
Point | Latitude | Longitude | Broad zone
1 | 39°37.15′ N. | 71°55.85′ W. | (*)
2 | 39°39.77′ N. | 71°53.7′ W. | (*)
3 | 39°39.55′ N. | 71°47.68′ W.
4 | 39°30.78′ N. | 71°36.24′ W.
5 | 39°27.26′ N. | 71°39.13′ W.
6 | 39°28.99′ N. | 71°45.47′ W.
7 | 39°33.91′ N. | 71°52.61′ W.
1 | 39°37.15′ N. | 71°55.85′ W. | (*)

(4) Jones and Babylon Canyons. Jones and Babylon Canyons discrete deep-sea coral zone is defined by straight lines connecting the following points in the order stated (copies of a chart depicting this area are available from the Regional Administrator upon request). An asterisk (*) in the Broad Zone column means the point is shared with the Broad Deep-sea Coral Zone, as defined in paragraph (b) of this section.

Jones and Babylon Canyons
Point | Latitude | Longitude | Broad zone
1 | 39°28.26′ N. | 72°2.2′ W. | (*)
2 | 39°29.88′ N. | 72°3.51′ W. | (*)
3 | 39°30.57′ N. | 72°3.47′ W. | (*)
4 | 39°31.28′ N. | 72°2.63′ W. | (*)
5 | 39°31.46′ N. | 72°1.41′ W. | (*)
6 | 39°30.37′ N. | 71°57.72′ W.
7 | 39°30.63′ N. | 71°55.13′ W.
8 | 39°23.81′ N. | 71°48.15′ W.
9 | 39°23′ N. | 71°52.48′ W.
1 | 39°28.26′ N. | 72°2.2′ W. | (*)

(5) Hudson Canyon. Hudson Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Hudson Canyon
Point | Latitude | Longitude | Broad zone
1 | 39°19.08′ N. | 72°9.56′ W. | (*)
2 | 39°25.17′ N. | 72°13.03′ W. | (*)
3 | 39°28.8′ N. | 72°17.39′ W. | (*)
4 | 39°30.16′ N. | 72°20.41′ W. | (*)
5 | 39°31.38′ N. | 72°23.86′ W. | (*)
6 | 39°32.55′ N. | 72°25.07′ W. | (*)
7 | 39°34.57′ N. | 72°25.18′ W. | (*)
8 | 39°34.53′ N. | 72°24.23′ W. | (*)
9 | 39°33.17′ N. | 72°24.1′ W. | (*)
10 | 39°32.07′ N. | 72°22.77′ W. | (*)
11 | 39°32.17′ N. | 72°22.08′ W. | (*)
12 | 39°30.3′ N. | 72°15.71′ W. | (*)
13 | 39°29.49′ N. | 72°14.3′ W. | (*)
14 | 39°29.44′ N. | 72°13.24′ W. | (*)
15 | 39°27.63′ N. | 72°5.87′ W. | (*)
16 | 39°13.93′ N. | 71°48.44′ W.
17 | 39°10.39′ N. | 71°52.98′ W.
18 | 39°14.27′ N. | 72°3.09′ W.
1 | 39°19.08′ N. | 72°9.56′ W. | (*)

(6) Mey-Lindenkohl Slope. Mey-Lindenkohl Slope discrete deep-sea coral zone is defined by straight lines connecting the following points in the order stated (copies of a chart depicting this area are available from the Regional Administrator upon request). An asterisk (*) in the Broad Zone column means the point is shared with the Broad Deep-Sea Coral Zone, as defined in paragraph (b) of this section.

Mey-Lindenkohl Slope
Point | Latitude | Longitude | Broad zone
1 | 38°43′ N. | 73°1.24′ W. | (*)
2 | 38°43.66′ N. | 73°0.36′ W. | (*)
3 | 38°45′ N. | 73°0.27′ W. | (*)
4 | 38°46.68′ N. | 73°1.07′ W. | (*)
5 | 38°47.54′ N. | 73°2.24′ W. | (*)
6 | 38°47.84′ N. | 73°2.24′ W. | (*)
7 | 38°49.03′ N. | 73°1.53′ W. | (*)
8 | 38°48.45′ N. | 73°1′ W. | (*)
9 | 38°49.15′ N. | 72°58.98′ W. | (*)
10 | 38°48.03′ N. | 72°56.7′ W. | (*)
11 | 38°49.84′ N. | 72°55.54′ W. | (*)
12 | 38°52.4′ N. | 72°52.5′ W. | (*)
13 | 38°53.87′ N. | 72°53.36′ W. | (*)
14 | 38°54.17′ N. | 72°52.58′ W. | (*)
15 | 38°54.7′ N. | 72°50.26′ W. | (*)
16 | 38°57.2′ N. | 72°47.74′ W. | (*)
17 | 38°58.64′ N. | 72°48.35′ W. | (*)
18 | 38°59.3′ N. | 72°47.86′ W. | (*)
19 | 38°59.22′ N. | 72°46.69′ W. | (*)
20 | 39°0.13′ N. | 72°45.47′ W. | (*)
21 | 39°1.69′ N. | 72°45.74′ W. | (*)
22 | 39°1.49′ N. | 72°43.67′ W. | (*)
23 | 39°3.9′ N. | 72°40.83′ W. | (*)
24 | 39°7.35′ N. | 72°41.26′ W. | (*)
25 | 39°7.16′ N. | 72°37.21′ W. | (*)
26 | 39°6.52′ N. | 72°35.78′ W. | (*)
27 | 39°11.73′ N. | 72°25.4′ W. | (*)
28 | 38°58.85′ N. | 72°11.78′ W.
29 | 38°32.39′ N. | 72°47.69′ W.
30 | 38°34.88′ N. | 72°53.78′ W.
1 | 38°43′ N. | 73°1.24′ W. | (*)

(7) Spencer Canyon. Spencer Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Spencer Canyon
Point | Latitude | Longitude | Broad zone
1 | 38°34.14′ N. | 73°11.14′ W. | (*)
2 | 38°35.1′ N. | 73°10.43′ W. | (*)
3 | 38°35.94′ N. | 73°11.25′ W. | (*)
4 | 38°37.57′ N. | 73°10.49′ W. | (*)
5 | 38°37.21′ N. | 73°9.41′ W. | (*)
6 | 38°36.72′ N. | 73°8.85′ W. | (*)
7 | 38°36.59′ N. | 73°8.25′ W.
8 | 38°28.94′ N. | 72°58.96′ W.
9 | 38°26.45′ N. | 73°3.24′ W.
1 | 38°34.14′ N. | 73°11.14′ W. | (*)

(8) Wilmington Canyon. Wilmington Canyon discrete deep-sea coral zone is defined by straight lines connecting the following points in the order stated (copies of a chart depicting this area are available from the Regional Administrator upon request). An asterisk (*) in the Broad Zone column means the point is shared with the Broad Deep-sea Coral Zone, as defined in paragraph (b) of this section.

Wilmington Canyon
Point | Latitude | Longitude | Broad zone
1 | 38°19.04′ N. | 73°33.02′ W. | (*)
2 | 38°25.08′ N. | 73°34.99′ W. | (*)
3 | 38°26.32′ N. | 73°33.44′ W. | (*)
4 | 38°29.72′ N. | 73°30.65′ W. | (*)
5 | 38°28.65′ N. | 73°29.37′ W. | (*)
6 | 38°25.53′ N. | 73°30.94′ W. | (*)
7 | 38°25.26′ N. | 73°29.97′ W. | (*)
8 | 38°23.75′ N. | 73°30.16′ W. | (*)
9 | 38°23.47′ N. | 73°29.7′ W. | (*)
10 | 38°22.76′ N. | 73°29.34′ W. | (*)
11 | 38°22.5′ N. | 73°27.63′ W. | (*)
12 | 38°21.59′ N. | 73°26.87′ W. | (*)
13 | 38°18.52′ N. | 73°22.95′ W. | (*)
14 | 38°14.41′ N. | 73°16.64′ W. | (*)
15 | 38°13.23′ N. | 73°17.32′ W. | (*)
16 | 38°15.79′ N. | 73°26.38′ W. | (*)
1 | 38°19.04′ N. | 73°33.02′ W. | (*)

(9) North Heyes and South Wilmington Canyons. North Heyes and South Wilmington Canyons discrete deep-sea coral zone is defined by straight lines connecting the following points in the order stated (copies of a chart depicting this area are available from the Regional Administrator upon request). An asterisk (*) in the Broad Zone column means the point is shared with the Broad Deep-Sea Coral Zone, as defined in paragraph (b) of this section.

North Heyes and South Wilmington Canyons
Point | Latitude | Longitude | Broad zone
1 | 38°15.25′ N. | 73°36.2′ W. | (*)
2 | 38°16.19′ N. | 73°36.91′ W. | (*)
3 | 38°16.89′ N. | 73°36.66′ W. | (*)
4 | 38°16.91′ N. | 73°36.35′ W. | (*)
5 | 38°17.63′ N. | 73°35.35′ W. | (*)
6 | 38°18.55′ N. | 73°34.44′ W. | (*)
7 | 38°18.38′ N. | 73°33.4′ W. | (*)
8 | 38°19.04′ N. | 73°33.02′ W. | (*)
9 | 38°15.79′ N. | 73°26.38′ W. | (*)
10 | 38°14.98′ N. | 73°24.73′ W. | (*)
11 | 38°12.32′ N. | 73°21.22′ W. | (*)
12 | 38°11.06′ N. | 73°22.21′ W. | (*)
13 | 38°11.13′ N. | 73°28.72′ W. | (*)
1 | 38°15.25′ N. | 73°36.2′ W. | (*)

(10) South Vries Canyon. South Vries Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

South Vries Canyon
Point | Latitude | Longitude | Broad zone
1 | 38°6.35′ N. | 73°44.8′ W. | (*)
2 | 38°7.5′ N. | 73°45.2′ W. | (*)
3 | 38°9.24′ N. | 73°42.61′ W. | (*)
4 | 38°3.22′ N. | 73°29.22′ W.
5 | 38°2.38′ N. | 73°29.78′ W.
6 | 38°2.54′ N. | 73°36.73′ W.
1 | 38°6.35′ N. | 73°44.8′ W. | (*)

(11) Baltimore Canyon. Baltimore Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Baltimore Canyon
Point | Latitude | Longitude | Broad zone
1 | 38°3.29′ N. | 73°49.1′ W. | (*)
2 | 38°6.19′ N. | 73°51.59′ W. | (*)
3 | 38°7.67′ N. | 73°52.19′ W. | (*)
4 | 38°9.04′ N. | 73°52.39′ W. | (*)
5 | 38°10.1′ N. | 73°52.32′ W. | (*)
6 | 38°11.98′ N. | 73°52.65′ W. | (*)
7 | 38°13.74′ N. | 73°50.73′ W. | (*)
8 | 38°13.15′ N. | 73°49.77′ W. | (*)
9 | 38°10.92′ N. | 73°50.37′ W. | (*)
10 | 38°10.2′ N. | 73°49.63′ W. | (*)
11 | 38°9.26′ N. | 73°49.68′ W. | (*)
12 | 38°8.38′ N. | 73°49.51′ W. | (*)
13 | 38°7.59′ N. | 73°47.91′ W. | (*)
14 | 38°6.96′ N. | 73°47.25′ W. | (*)
15 | 38°6.51′ N. | 73°46.99′ W. | (*)
16 | 38°5.69′ N. | 73°45.56′ W. | (*)
17 | 38°6.35′ N. | 73°44.8′ W. | (*)
18 | 38°2.54′ N. | 73°36.73′ W.
19 | 37°59.19′ N. | 73°40.67′ W.
1 | 38°3.29′ N. | 73°49.1′ W. | (*)

(12) Warr and Phoenix Canyon Complex. Warr and Phoenix Canyon Complex discrete deep-sea coral zone is defined by straight lines connecting the following points in the order stated (copies of a chart depicting this area are available from the Regional Administrator upon request). An asterisk (*) in the Broad Zone column means the point is shared with the Broad Deep-Sea Coral Zone, as defined in paragraph (b) of this section.

Warr and Phoenix Canyon Complex
Point | Latitude | Longitude | Broad zone
1 | 37°53.68′ N. | 73°57.41′ W. | (*)
2 | 37°55.07′ N. | 73°57.27′ W. | (*)
3 | 38°3.29′ N. | 73°49.1′ W. | (*)
4 | 37°59.19′ N. | 73°40.67′ W.
5 | 37°52.5′ N. | 73°35.28′ W.
6 | 37°50.92′ N. | 73°36.59′ W.
7 | 37°49.84′ N. | 73°47.11′ W.
1 | 37°53.68′ N. | 73°57.41′ W. | (*)

(13) Accomac and Leonard Canyons. Accomac and Leonard Canyons discrete deep-sea coral zone is defined by straight lines connecting the following points in the order stated (copies of a chart depicting this area are available from the Regional Administrator upon request). An asterisk (*) in the Broad Zone column means the point is shared with the Broad Deep-Sea Coral Zone, as defined in paragraph (b) of this section.

Accomac and Leonard Canyons
Point | Latitude | Longitude | Broad zone
1 | 37°45.15′ N. | 74°7.24′ W. | (*)
2 | 37°45.88′ N. | 74°7.44′ W. | (*)
3 | 37°46.7′ N. | 74°5.98′ W. | (*)
4 | 37°49.62′ N. | 74°6.03′ W. | (*)
5 | 37°51.25′ N. | 74°5.48′ W. | (*)
6 | 37°51.99′ N. | 74°4.51′ W. | (*)
7 | 37°51.37′ N. | 74°3.3′ W. | (*)
8 | 37°50.63′ N. | 74°2.69′ W. | (*)
9 | 37°49.62′ N. | 74°2.28′ W. | (*)
10 | 37°50.28′ N. | 74°0.67′ W. | (*)
11 | 37°50.2′ N. | 74°0.17′ W.
12 | 37°50.52′ N. | 73°58.59′ W.
13 | 37°50.99′ N. | 73°57.17′ W.
14 | 37°50.4′ N. | 73°52.35′ W.
15 | 37°42.76′ N. | 73°44.86′ W.
16 | 37°39.96′ N. | 73°48.32′ W.
17 | 37°40.04′ N. | 73°58.25′ W.
18 | 37°44.14′ N. | 74°6.96′ W.
1 | 37°45.15′ N. | 74°7.24′ W. | (*)

(14) Washington Canyon. Washington Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Washington Canyon
Point | Latitude | Longitude | Broad zone
1 | 37°22.74′ N. | 74°26.24′ W. | (*)
2 | 37°22.87′ N. | 74°26.16′ W. | (*)
3 | 37°24.44′ N. | 74°28.57′ W. | (*)
4 | 37°24.67′ N. | 74°29.71′ W. | (*)
5 | 37°25.93′ N. | 74°30.13′ W. | (*)
6 | 37°27.25′ N. | 74°30.2′ W. | (*)
7 | 37°28.6′ N. | 74°30.6′ W. | (*)
8 | 37°29.43′ N. | 74°30.29′ W. | (*)
9 | 37°29.53′ N. | 74°29.95′ W. | (*)
10 | 37°27.68′ N. | 74°28.82′ W. | (*)
11 | 37°27.06′ N. | 74°28.76′ W. | (*)
12 | 37°26.39′ N. | 74°27.76′ W. | (*)
13 | 37°26.3′ N. | 74°26.87′ W. | (*)
14 | 37°25.69′ N. | 74°25.63′ W. | (*)
15 | 37°25.83′ N. | 74°24.22′ W. | (*)
16 | 37°25.68′ N. | 74°24.03′ W. | (*)
17 | 37°25.08′ N. | 74°23.29′ W.
18 | 37°16.81′ N. | 73°52.13′ W.
19 | 37°11.27′ N. | 73°54.05′ W.
20 | 37°15.73′ N. | 74°12.2′ W.
1 | 37°22.74′ N. | 74°26.24′ W. | (*)

(15) Norfolk Canyon. Norfolk Canyon discrete deep-sea coral zone is defined by straight lines connecting the following points in the order stated (copies of a chart depicting this area are available from the Regional Administrator upon request). An asterisk (*) in the Broad Zone column means the point is shared with the Broad Deep-Sea Coral Zone, as defined in paragraph (b) of this section.

Norfolk Canyon
Point | Latitude | Longitude | Broad zone
1 | 36°58.51′ N. | 74°36.51′ W. | (*)
2 | 36°58.62′ N. | 74°36.97′ W. | (*)
3 | 37°4.43′ N. | 74°41.03′ W. | (*)
4 | 37°5.83′ N. | 74°45.57′ W. | (*)
5 | 37°6.97′ N. | 74°40.8′ W. | (*)
6 | 37°4.52′ N. | 74°37.77′ W. | (*)
7 | 37°4.02′ N. | 74°33.83′ W. | (*)
8 | 37°4.52′ N. | 74°33.51′ W. | (*)
9 | 37°4.40′ N. | 74°33.11′ W. | (*)
10 | 37°4.16′ N. | 74°32.37′ W.
11 | 37°4.40′ N. | 74°30.58′ W.
12 | 37°3.65′ N. | 74°3.66′ W.
13 | 36°57.75′ N. | 74°3.61′ W.
14 | 36°59.77′ N. | 74°30′ W.
15 | 36°58.23′ N. | 74°32.95′ W.
16 | 36°57.99′ N. | 74°34.18′ W.
1 | 36°58.51′ N. | 74°36.51′ W. | (*)

(d) Transiting. Vessels may transit the Broad and Discrete Deep-Sea Coral Zones defined in paragraphs (b) and (c) of this section, provided bottom-tending trawl nets are out of the water and stowed on the reel and any other fishing gear that is prohibited in these areas is onboard, out of the water, and not deployed. Fishing gear is not required to meet the definition of “not available for immediate use” in § 648.2, when a vessel transits the Broad and Discrete Deep-Sea Coral Zones.

[FR Doc. 2017-23752 Filed 11-3-17; 8:45 am]

BILLING CODE 3510-22-P